FEDERAL COMMUNICATIONS COMMISSION

47 CFR Chapter I

[OCBO: CB Docket No. BO 16-251; DA 16-792]

Possible Revision or Elimination of Rules

AGENCY: Federal Communications Commission.

ACTION: Review of regulations; comments requested.

SUMMARY: This document invites members of the public to comment on the Federal Communication Commission's (FCC's or Commission's) rules to be reviewed pursuant to section 610 of the Regulatory Flexibility Act of 1980, as amended (RFA). The purpose of the review is to determine whether Commission rules whose ten-year anniversary dates are in the years 2011-2014, as contained in the Appendix, should be continued without change, amended, or rescinded in order to minimize any significant impact the rules may have on a substantial number of small entities. Upon receipt of comments from the public, the Commission will evaluate those comments and consider whether action should be taken to rescind or amend the relevant rule(s).

DATES: Comments may be filed on or before May 4, 2017.

FOR FURTHER INFORMATION CONTACT: Chana S. Wilkerson, Attorney-Advisor, Office of Communications Business Opportunities (OCBO), Federal Communications Commission, (202) 418-0990. People with disabilities may contact the FCC to request reasonable accommodations (accessible format documents, sign language interpreters, CART, etc.) by email: FCC504@fcc.gov or phone: 202-418-0530 or TTY: 202-418-0432.

ADDRESSES: Federal Communications Commission, Office of the Secretary, 445 12th Street SW., Washington, DC 20554.

SUPPLEMENTARY INFORMATION: Each year the Commission will publish a list of ten-year old rules for review and comment by interested parties pursuant to the requirements of section 610 of the RFA.

FCC Seeks Comment Regarding Possible Revision or Elimination of Rules Under the Regulatory Flexibility Act, 5 U.S.C. Section 610

[CB Docket No. BO 16-251]

Comment Period Closes: May 4, 2017.

1. Pursuant to the Regulatory Flexibility Act (RFA), see 5 U.S.C. 610, the FCC hereby publishes a plan for the review of rules adopted by the agency in calendar years 2001-2004 which have, or might have, a significant economic impact on a substantial number of small entities. The purpose of the review is to determine whether such rules should be continued without change, or should be amended or rescinded, consistent with the stated objective of section 610 of the RFA, to minimize any significant economic impact of such rules upon a substantial number of small entities.

2. This document lists the FCC regulations to be reviewed during the next twelve months. The Commission will issue separately plans for the review of rules adopted in succeeding years.

3. In reviewing each rule in a manner consistent with the requirements of section 610 the FCC will consider the following factors:

(a) The continued need for the rule;

(b) The nature of complaints or comments received concerning the rule from the public;

(c) The complexity of the rule;

(d) The extent to which the rule overlaps, duplicates, or conflicts with other federal rules and, to the extent feasible, with state and local governmental rules; and

(e) The length of time since the rule has been evaluated or the degree to which technology, economic conditions, or other factors have changed in the area affected by the rule.

4. Appropriate information has been provided for each rule, including a Brief Description of the rule and the need for, and Legal Basis of, the rule. The public is invited to comment on the rules chosen for review by the FCC according to the requirements of section 610 of the RFA. All relevant and timely comments will be considered by the FCC before final action is taken in this proceeding.

Comments may be filed using the Commission's Electronic Comment Filing System (“ECFS”) or by filing paper copies. Comments filed through the ECFS may be sent as an electronic file via the Internet to http://www.fcc.gov/cgb/ecfs/. Generally, only one copy of an electronic submission must be filed. In completing the transmittal screen, commenters should include their full name, U.S. Postal Service mailing address, and the applicable docket (proceeding) and “DA” number.

Parties may also submit an electronic comment by Internet email. To obtain filing instructions for email comments, commenters should send an email to ecfs@fcc.gov, and should include the following words in the body of the message: “get form.” A sample form and directions will be sent in reply. Parties who choose to file by paper must file an original and one copy of each filing. Again, please include the docket (proceeding) and “DA” number.

Filings can be sent by hand or messenger delivery, by commercial overnight courier, or by first-class or overnight U.S. Postal Service mail. All hand-delivered or messenger-delivered paper filings for the Commission's Secretary must be delivered to FCC Headquarters at 445 12th St. SW., Room TW-A325, Washington, DC 20554. Again, please include the docket (proceeding) and “DA” number.

The filing hours at this location are 8:00 a.m. to 7:00 p.m.

All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street SW., Washington, DC 20554.

• All filings must be addressed to the Commission's Secretary, Office of the Secretary, Federal Communications Commission.

Comments in this proceeding will be available for public inspection and copying during regular business hours at the FCC Reference Information Center, Portals II, 445 12th Street SW., Room CY-A257, Washington, DC 20554. They may also be purchased from the Commission's duplicating contractor, Best Copy and Printing, Inc., 445 12th Street SW., Room CY-B402, Washington, DC 20554, telephone 202-488-5300 or 800-378-3160, facsimile 202-488-5563, or via email at fcc@bcniweb.com. To request materials in accessible formats for people with disabilities (Braille, large print, electronic files, audio format), send an email to fcc504@fcc.gov or call the Consumer & Governmental Affairs Bureau at 202-418-0530 (voice), 202-418-0432 (TTY).

The proceeding this Notice initiates shall be treated as a “permit-but-disclose” proceeding in accordance with the Commission's ex parte rules.¹ Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

¹ 47 CFR 1.1200 et seq.

For information on the requirements of the RFA, the public may contact Chana S. Wilkerson, Attorney-Advisor, Office of Communications Business Opportunities, 202-418-0990 or visit www.fcc.gov/ocbo.

Federal Communications Commission.
Lisa Fowlkes,
Acting Director, Office of Communications Business Opportunities.

Appendix

List of rules for review pursuant to the Regulatory Flexibility Act of 1980, 5 U.S.C. Section 610, for the ten-year period beginning in the year 2001 and ending in the year 2004. All listed rules are in Title 47 of the Code of Federal Regulations.

PART 1—PRACTICE AND PROCEDURE

Subpart E—Complaints, Applications, Tariffs, and Reports Involving Common Carriers

Brief Description: Section 1.767 sets forth the application filing requirements for submarine cable landing licenses. Section 1.768 sets forth the notification and prior approval requirements for submarine cable landing licensees that are or propose to become affiliated with a foreign carrier.

Need: The rules are needed to implement the Commission's policies that facilitate the expansion of capacity and facilities-based competition in the submarine cable market. These measures are designed to enable international carriers to respond to the demands of the market with minimal regulatory oversight and delay, saving time and resources for both the industry and government, while preserving the Commission's ability to guard against anti-competitive behavior.

Legal Basis: 47 U.S.C. 151, 154(i), 154(j), 155, 225, 303(r), 309 and 325(e).

Section Numbers and Titles:

1.767(a), (a)(5), (a)(7)-(11), (g)-(m) Cable landing licenses.

1.768 Notification by and prior approval for submarine cable landing licensees that are or propose to become affiliated with a foreign carrier.

Subpart F—Wireless Radio Services Applications and Proceedings

Brief Description: Part 1 rules state the general rules of practice and procedure before the Federal Communications Commission. Subpart F sets forth the requirements and conditions under which entities may be licensed in the Wireless Radio Services as described in parts 1, 13, 20, 22, 24, 26, 27, 74, 80, 87, 90, 95, 97 and 101.

Need: These rules are needed to implement the Commission's policies with regard to the processing of applications, like applications to provide public safety services, for licenses under the Communications Act of 1934, as amended, and to update the rules to comply with Federal Registration Number (“FRN”) requirements.

Legal Basis: 15 U.S.C 79 et seq.; 47 U.S.C. 151, 154(i), 154(j), 155, 157, 225, 227, 303(r) and 309.

Section Numbers and Titles:

1.913(g) Application and notification forms; electronic and manual filing.

1.934(d)(2) through (4) Defective applications and dismissal.

Subpart V—Implementation of Section 706 of the Telecommunications Act of 1996; Commission Collection of Advanced Telecommunications Capability Data

Brief Description: Subpart V sets out the terms by which certain entities shall complete FCC Form 477 to report data to the Commission concerning the deployment of advanced telecommunications capability, defined pursuant to 47 U.S.C. 157 as “high-speed, switched, broadband telecommunications capability that enables users to originate and receive high-quality voice, data, graphics, and video telecommunications using any technology,” and the deployment of services that are competitive with advanced telecommunications capability.

Need: Subpart V implements the Commission's data collection authority pursuant to section 706 of the Telecommunications Act of 1996.

Legal Basis: 15 U.S.C. 79 et seq.; 47 U.S.C. 151, 154(i), 154(j), 155, 157, 225, and 303(r).

Section Number and Title:

1.7001 Scope and content of filed reports.

Subpart W—FCC Registration Number

Brief Description: Anyone doing business with the Commission is required to first obtain a unique identifying number called an FCC Registration Number, or “FRN,” which must be referenced when submitting or filing applications and remitting payments to the Commission. These rules describe the use of FRNs, identify the individuals and entities required to obtain FRNs and how they can be obtained, and set forth penalties for noncompliance.

Need: To ensure compliance with the Debt Collection Improvement Act of 1996 (“DCIA”), these rules establish individual identification numbers (FRNs) used by individuals and entities when doing business with the FCC. FRNs are utilized by all Commission systems that handle financial, authorization of service, and enforcement activities, and enable our customers to be more easily identified as the filers of applications, reports, remittance payments and other documents with the FCC, thereby improving the Commission's ability to effectively forecast, assess and collect regulatory fees; track enforcement of fines and forfeiture actions; monitor and collect penalties; and manage the grant of waivers and exemptions.

Legal Basis: 31 U.S.C. 3512(b) (mandating the establishment and maintenance of systems of accounting and internal controls); 31 CFR 901.1 (requiring agencies to aggressively collect all debts arising out of the agency's activities).

Section Numbers and Titles:

1.8001 FCC Registration Number (FRN).

1.8002 Obtaining an FRN.

1.8003 Providing the FRN in Commission filings.

1.8004 Penalty for Failure to Provide the FRN.

Subpart X—Spectrum Leasing

Brief Description: This subpart covers the rules regarding spectrum leasing. These rules specify which services are subject to the general policies and procedures imposed by this subpart. In addition to providing the policies and requirements that govern the spectrum leasing process, these rules also make special provisions which apply to educational broadband, the Public Safety Radio Service, and the ancillary terrestrial component of Mobile Satellite Services.

Need: By providing thorough guidance to any licensee seeking to lease its spectrum, these rules regulate and stimulate a robust secondary market.

Legal Basis: 15 U.S.C. 79, et seq.; 47 U.S.C. 151, 154(i), 154(j), 155, 157, 160, 201, 225, 227, 303, 309, 332, 1403, 1404, 1451, 1452, 1455.

Section Numbers and Titles:

1.9001 Purpose and scope.

1.9003 Definitions.

1.9005 Included services.

1.9010 De facto control standard for spectrum leasing arrangements.

1.9020 Spectrum manager leasing arrangements.

1.9030 Long-term de facto transfer leasing arrangements.

1.9035 Short-term de facto transfer leasing arrangements.

1.9040 Contractual requirements applicable to spectrum leasing arrangements.

1.9045 Requirements for spectrum leasing arrangements entered into by licensees participating in the installment payment program.

1.9046 Special provisions related to spectrum manager leasing in the Citizens Broadband Radio Service.

1.9047 Special provisions relating to leases of educational broadband service spectrum.

1.9048 Special provisions relating to spectrum leasing arrangements involving licensees in the Public Safety Radio Services.

1.9049 Special provisions relating to spectrum leasing arrangements involving the ancillary terrestrial component of Mobile Satellite Services.

1.9050 Who may sign spectrum leasing notifications and applications.

1.9055 Assignment of file numbers to spectrum leasing notifications and applications.

1.9060 Amendments, waivers, and dismissals affecting spectrum leasing notifications and applications.

1.9080 Private commons.

Subpart Y—International Bureau Filing System

Brief Description: Subpart Y describes the procedures for electronic filing of international and satellite services applications using the International Bureau Filing System (IBFS).

Need: Subpart Y is necessary as it codifies the use of the International Bureau Filing System (IBFS) as an official method of filing applications related to satellite and international telecommunications services with the Commission. Electronic filing improves the speed and efficiency of application processing and also expedites the availability of application information for public use and inspection.

Legal Basis: 47 U.S.C. 151, 154(i), 154(j), 155, 225, 303(r), 309 and 325(e).

Section Numbers and Titles: (originally codified at 1.9000-9018)

1.10000 What is the purpose of these rules?

1.10001 Definitions.

1.10002 What happens if the rules conflict?

1.10003 When can I start operating?

1.10004 What am I allowed to do if I am approved?

1.10005 What is IBFS?

1.10006 Is electronic filing mandatory?

1.10007, (b) What applications can I file electronically?

1.10008 What are IBFS file numbers?

1.10009 What are the steps for electronic filing?

1.10010 Do I need to send paper copies with my electronic applications?

1.10011 Who may sign applications?

1.10012 When can I file on IBFS?

1.10013 How do I check the status of my application after I file it?

1.10014 What happens after officially filing my application?

1.10015 Are there exceptions for emergency filings?

1.10016 How do I apply for special temporary authority?

1.10017 How can I submit additional information?

1.10018 May I amend my application?

PART 2—FREQUENCY ALLOCATIONS AND RADIO TREATY MATTERS; GENERAL RULES AND REGULATIONS

Subpart C—Emissions

Brief Description: These rules specify the frequency bandwidth limits and a given class of emission. The emissions are useful for the functioning of the receiving equipment.

Need: The rules provide the frequency bandwidths limits and the given class of emission.

Legal Basis: 47 U.S.C. 154, 302a, 303, and 336, unless otherwise noted.

Section Number and Title:

2.202 Bandwidths.

Subpart D—Call Signs and Other Forms of Identifying Radio Transmissions

Brief Description: These rules require stations using radio frequencies that identify transmissions according to the procedures prescribed by the rules governing the class of station to which it belongs.

Need: Call signs are required for each station to identify transmission governing the class of each station.

Section Numbers and Titles:

2.301 Station identification requirement.

2.302 Call signs.

2.303 Other forms of identification of stations.

Subpart K—Importation of Causing Harmful Interference

Brief Description: These rules update current rules to better accomplish interference prevention from radiofrequency devices and facilitate the filing of FCC Form 740 (Importation) information.

Need: These rules are promulgated to control criteria thereby reducing filing and handling burden on both importers and the government and facilitates conversion to a method of electronic filing of importation information in cooperation with the U.S. Customs Service.

Legal Basis: 47 U.S.C. 154(i), 302, 303(r).

Section Numbers and Titles:

2.1203 General requirement for entry into the U.S.A.

2.1207 Examination of imported equipment.

PART 11—EMERGENCY ALERT SYSTEM (EAS)

Subpart B—Equipment Requirements

Brief Description: These rules ensure that EAS decoders, encoders and combined units are compliant with the certification requirements and are capable of implementing the new EAS codes specified in section 11.31 and the logging features in section 11.34(a)(4).

Need: Ensuring that EAS decoders, encoders, and combined are properly certified and capable of meeting specific EAS requirements

Legal Basis: 47 U.S.C. 151, 154(i) and (o), 303(r), 544(g), 606.

Section Number and Title:

11.34(f) and (g) Acceptability of equipment.

PART 13—COMMERCIAL RADIO OPERATORS

Brief Description: Part 13 rules set forth the manner and conditions under which commercial radio operators are licensed by the Commission pursuant to the Communications Act of 1934, as amended.

Need: These rules are needed to define the application process for licensing commercial radio operators and to ensure the telegraphy requirements for commercial radio operator licenses remain unchanged.

Legal Basis: 47 U.S.C. 154 and 303.

Section Numbers and Titles:

13.9(d)(2) Eligibility and application for new license or endorsement.

13.13(d)(2) Application for a renewed or modified license.

PART 15—RADIO FREQUENCY DEVICES

Subpart A—General

Brief Description: These rules sets out the regulations under which an intentional, unintentional, or incidental radiator may be operated without an individual license. These rules contain the technical specifications, administrative requirements and other conditions relating to the marketing of part 15 devices.

Need: These rules are necessary to promote the efficient use of the radio spectrum by preventing harmful interference to licensed radio services that share the same spectrum or nearby spectrum as unlicensed devices.

Legal Basis: 47 U.S.C. 154, 302a, 303, 304, 307, 336, and 544a.

Section Numbers and Titles:

Subpart B—Unintentional Radiators

15.107 Conducted limits.

15.121 Scanning receivers and frequency converters used with scanning receivers.

Subpart C—Intentional Radiators

15.207 Conducted limits.

15.213 Cable locating equipment.

15.214 Cordless telephones.

Subpart F—Ultra-Wideband Operation

15.509 Technical requirements for ground penetrating radars and wall imaging systems.

15.510 Technical requirements for through D-wall imaging systems.

15.511 Technical requirements for surveillance systems.

15.517 Technical requirements for indoor UWB systems.

15.519 Technical requirements for hand held UWB systems.

PART 20—COMMERCIAL MOBILE SERVICES

Brief Description: Part 20 rules set forth the Commission's requirements and conditions for commercial mobile radio service providers under the Communications Act of 1934, as amended.

Need: The amended rules are needed to update subsections which referred to services by previous names and subpart designations and it defines which mobile services will be treated as common carriage services pursuant to section 332 of the Communications Act.

Legal Basis: 47 U.S.C. 154, 160, 201, 251-254, 301, 303, 316 and 332. Section 20.12 is also issued under 47 U.S.C. 1302.

Section Number and Title:

20.9(a)(6) through (9) Commercial mobile radio service.

Brief Description: Section 20.15(c) provides that providers of commercial radio services (CMRS) shall not file tariffs for international and interstate service to their customers, interstate access service, or international operator services. The section further provides that sections 1.771 through 1.773 of part 61 of the rules do not apply to international and interstate services provided by commercial mobile radio service. Finally, the section further provides that providers of commercial mobile radio services must cancel their tariffs for international and interstate service to their customers, interstate access service, and international operator service. Section 20.15(d) provides that, except as provided in paragraphs (d)(1) and (d)(2), nothing in section 20.15(d) shall be construed to modify the Commission's rules and policies on the provision of international service under part 63 of the rules. Paragraph (d)(1) provides that, notwithstanding the provisions of section 63.21(c) of the rules (requiring carriers regulated dominant for a particular service on a particular route to file tariffs), a provider of commercial mobile radio service is not required to comply with section 42.10 of the rules. Section 20.15(d)(2) provides that a provider of commercial mobile radio service that is classified as dominant under section 63.10 of the rules because it is affiliated with a foreign carrier must comply with section 42.11 of the rules if its affiliated foreign carrier collects settlement payments from U.S. carriers for terminating U.S.-originated international switched traffic at the foreign end of the route. Such a CMRS carrier is not required to comply with section 42.11 of the rules if it provides services on affiliated routes solely through the resale of an unaffiliated facilities-based provider's international switched traffic. Section 20.15(d)(3) provides that, for purposes of paragraphs (d)(1) and (d)(2) of section 20.15, the terms “affiliated” and “foreign carrier” are defined in section 63.09 of the rules.

Need: Section 20.15 is necessary to provide that providers of CMRS are not required under section 203 of the Communications Act, 47 U.S.C. 203, to file a tariff for the international and interstate CMRS they provide to their customers or for interstate access service they provide to other carriers or their offer of international operator service. The rule is also needed to ensure that providers of CMRS do not voluntarily file tariffs for such services, as the Commission has concluded that competition among CMRS providers is the best way to ensure that rates, terms and conditions for CMRS are just and reasonable. Paragraphs (d)(1) and (d)(2) of section 20.15 are necessary to ensure that the Commission's decision to require the detariffing of CMRS is not frustrated by tariffing requirements in other services.

Legal Basis: 47 U.S.C. 154, 160, 201, 251-254, 303, 316 and 332.

Section Number and Title:

20.15 Requirements under Title II of the Communications Act.

Brief Description: The note to rule 20.18(c) provided that operators of digital wireless systems must begin complying with the provisions of the rule paragraph on or before June 30, 2002. The rules in sections 20.18(g)(1), (2) and (i) make adjustments to the deployment schedule for wireless carriers that choose to implement enhanced 911 Phase II service using a handset-based technology. The rules defer the date for initial distribution of Automatic Location Identification (ALI)-capable handsets by seven months, adjust the timetable for carriers to meet certain interim benchmarks for activating new ALI-capable handsets, defer the date by which a carrier must achieve full penetration of ALI-capable handsets until December 31, 2005, modify the manner in which the Commission defines full penetration by adopting a requirement that carriers achieve 95 percent penetration of ALI-capable handsets by the December 31, 2005 date, eliminate the separate handset phase-in schedule triggered by a request from a Public Safety Answering Point, and extend the deadline for carriers to file Phase II enhanced 911 implementation reports.

Need: The Commission established December 31, 2001, as the deadline for carriers operating digital wireless systems to have obtained all software upgrades and equipment necessary to make their systems capable of transmitting 911 calls from TTY devices, but allowed wireless carriers an additional six-month period (until June 30, 2002) to integrate, test, and deploy the technology in their systems in conjunction with the public safety community. The rules in sections 20.18(g)(1), (2) and (i) are needed to establish a practical, understandable, and workable schedule for implementation of handset-based ALI solutions for enhanced 911 Phase II service.

Legal Basis: 47 U.S.C. 154, 160, 251-254, 303, and 332 unless otherwise noted.

Section Numbers and Titles:

20.18(c) 911 Service.

20.18(g)(1), (2), and (i) Phase-in for handset-based location technologies.

Brief Description: Section 20.19 requires providers of covered mobile services and the manufacturers of handsets used with these services to offer a selection of hearing aid-compatible handsets. Providers and manufacturers must ensure that a certain minimum percentage or number of the handsets that they offer meet a specified rating for compatibility with hearing aids in acoustic coupling mode (coupling via the hearing aid microphone) and inductive coupling mode (coupling via a telecoil), as measured under Commission-approved technical standards.

Need: Section 20.19 implements, for wireless handsets, the statutory requirement under 47 U.S.C. 610(b) that telephones and devices used for advanced communications services provide internal means for effective use with compatible hearing aids. The rule is also necessary to ensure reasonable access to commercial mobile services by persons with impaired hearing, as required under 47 U.S.C. 610(a).

Legal Basis: 47 U.S.C. 151, 154(i), 157, 160, 201, 202, 208, 214, 301, 303, 308, 309(j), 310, and 610.

Section Number and Title:

20.19 Hearing aid-compatible mobile handsets.

PART 24—PERSONAL COMMUNICATIONS SERVICES

Subpart D—Narrowband PCS

Brief Description: Part 24 sets forth rules relating to Personal Communications Services (PCS), specifically, the rules establishing the requirements and conditions under which radio stations may be licensed and used in those services. Subpart D sets forth the rules governing the licensing and operation of narrowband PCS systems authorized in the 901-902, 930-931, and 940-941 MHz bands (900 MHz band).

Need: These rules are needed to set forth which frequencies are available for narrowband PCS and to revise an erroneous reference to another rule section.

Legal Basis: 47 U.S.C. 154, 301, 302, 303, 309 and 332.

Section Numbers and Titles:

24.129 Frequencies.

24.133(a) Emission limits.

Subpart E—Broadband PCS

Brief Description: This subpart covers the technical requirements for broadband Personal Communications Services operations in the 1850-1910 and 1930-1990 MHz bands. These rules require licensees to make a substantial service showing in their license area within ten years of the date of the initial grant or license renewal in order to avoid forfeiture of the license, and specify that the 1910-1915 MHz frequency block is to be used for mobile station transmissions while the 1990-1995 MHz block shall be used for base station transmissions.

Need: By imposing a substantial service standard on the Personal Communications Services construction requirement and designating the types of transmissions authorized on the paired frequency blocks 1910-1915 and 1990-1995 MHz, these rules incentivize the active use of spectrum.

Legal Basis: 47 U.S.C. 154, 301, 302, 303, 309, 332.

Section Numbers and Titles:

24.203(d) Construction requirements.

24.229(c) Frequencies.

PART 25—SATELLITE COMMUNICATIONS

Subpart A—General

Brief Description: Part 25 contains the Commission's rules governing the licensing and operation of space stations and earth stations. It includes application requirements, technical requirements, operational requirements, and coordination requirements for various satellite services. The rules also define the Commission's processing of applications.

Need: The part 25 rules are needed to ensure that satellite services may be provided without harmful interference and consistent with the public interest.

Legal Basis: 47 U.S.C. 154, 301, 302, 303, 307, 309, 310, 319, 332, 605, 721.

Section Numbers and Titles:

25.103 Definitions.

Subpart B—Applications and Licenses

25.110 Filing of applications, fees, and number of copies.

25.111(b), (c) Additional information, ITU filings, and ITU cost recovery.

25.112(a)(3), (b) introductory text Dismissal and return of applications.

25.113(b) [formerly partially in 25.136, 25.143(i), (j), (k)], (g), (h) Station construction, deployment approval, and operation of spare satellites.

25.114 Applications for space station authorizations.

25.115(a), (c)(2), (e), (f) Applications for earth station authorizations.

25.116(b)(5), (c) introductory text, (d), (e) Amendments to applications.

25.117(a), (c), (d)(1), (2), (3), (f) Modification of station license.

25.118(a), (b), (e) Modifications not requiring prior authorization.

25.119(a), (c), (d), (g) Assignment or transfer of control of station authorization.

25.120(b) Application for special temporary authorization.

25.121 License term and renewals.

25.129 Equipment authorization for portable earth-station transceivers.

25.130(a) Filing requirements for transmitting earth stations.

25.131(a), (b), (h), (i), (j) Filing requirements and registration for receive-only earth stations.

25.132(a) Verification of earth station antenna performance.

25.135(c), (d) Licensing provisions for earth station networks in the non-voice, non-geostationary Mobile-Satellite Service.

25.287 [formerly partially in 25.136] Requirements pertaining to operation of mobile stations in the NVNG, 1.5/1.6 GHz, 1.6/2.4 GHz, and 2 GHz Mobile-Satellite Service bands.

25.137 Requests for U.S. market access through non-U.S.-licensed space stations.

25.138(a) introductory text, (a)(6), (f) Licensing requirements for GSO FSS earth stations in the conventional Ka-band.

25.139 NGSO FSS coordination and information sharing between MVDDS licensees in the 12.2 GHz to 12.7 GHz band.

25.140(a) [formerly generally in 25.140(b)] Further requirements for license applications for GSO space station operation in the FSS and the 17/24 GHz BSS.

25.142(a)(1) Licensing provisions for the non-voice, non-geostationary Mobile-Satellite Service.

25.144(b) Licensing provisions for the 2.3 GHz satellite digital audio radio service.

25.145 Licensing provisions for the FSS in the 18.3-20.2 GHz and 28.35-30.0 GHz bands.

25.146 Licensing and operating rules for the NGSO FSS in the 10.7-14.5 GHz bands.

25.148 Licensing provisions for the Direct Broadcast Satellite Service.

25.149 Application requirements for ancillary terrestrial components in Mobile-Satellite Service networks operating in the 1.5/1.6 GHz and 1.6/2.4 GHz Mobile-Satellite Service.

25.154(a)(3), (c), (d) Opposition to applications and other pleadings.

25.155 Mutually exclusive applications.

25.156(d) Consideration of applications.

25.157 Consideration of applications for NGSO-like satellite operation.

25.158 Consideration of applications for GSO-like satellite operation.

25.159 Limits on pending applications and unbuilt satellite systems.

25.161(a) Automatic termination of station authorization.

25.164 Milestones.

25.165 Surety bonds.

Subpart C—Technical Standards

25.202(a) Frequencies, frequency tolerance, and emission limits.

25.208(c), (d), (l), (m), (o), (p)-(t) Power flux density limits.

25.209(h)(1) Antenna performance standards.

25.210(c) [formerly in 25.215], (f), (j) Technical requirements for space stations.

25.216 Limits on emissions from mobile earth stations for protection of aeronautical radionavigation-satellite service.

25.217 Default service rules.

25.253 Special requirements for ancillary terrestrial components operating in the 1626.5-1660.5 MHz/1525-1559 MHz bands.

25.254 Special requirements for ancillary terrestrial components operating in the 1610-1626.5 MHz/2483.5-2500 MHz bands.

25.255 Procedures for resolving harmful interference related to operation of ancillary terrestrial components operating in the 1.5/1.6 GHz and 1.6/2.4 GHz bands.

25.258 Sharing between NGSO MSS feeder-link stations and GSO FSS services in the 29.25-29.5 GHz band.

25.261 Procedures for avoidance of in-line interference events for Non Geostationary Satellite Orbit (NGSO) Satellite Network Operations in the Fixed-Satellite Service (FSS) Bands.

Subpart D—Technical Operations

25.271(e) Control of transmitting stations.

25.280 Inclined orbit operations.

25.282 Orbit raising maneuvers.

25.283 End-of-life disposal.

25.284 Emergency Call Center Service.

25.285 [formerly generally in 25.143(i), (j), (k)] Operation of MSS and ATC transmitters or transceivers on board civil aircraft.

Subpart F—Competitive Bidding Procedures for DARS

25.401 Satellite DARS applications subject to competitive bidding.

25.404 Submission of down payment and filing of long-form applications.

25.601 Equal employment opportunities.

25.701 Other DBS Public interest obligations.

PART 27—MISCELLANEOUS WIRELESS COMMUNICATIONS SERVICES

Subpart B—Applications and Licenses

Brief Description: Part 27 contains service and licensing rules for Miscellaneous Wireless Communications Services. Subpart B establishes application and licensing requirements applicable to a number of spectrum bands, including AWS-1 (Advance Wireless Services) stations operating in the 1710-1755/2110-2155 MHz band.

Need: The revised rules specify channel blocks for AWS-1 (27.11(i)) and establish the term for licenses to operate in these frequencies (27.13(g)). The need for these rules is ongoing.

Legal Basis: 47 U.S.C. 154, 301, 302, 303, 307, 309, 332, 336, 337, 1403, 1404 and 1451.

Section Numbers and Titles:

27.11(i) Initial authorization.

27.13(g) License period.

Subpart C—Technical Standards

Brief Description: This subpart contains the rules for the miscellaneous wireless communications services. These rules specify power and antenna height requirements for stations transmitting in the 1695-1710 MHz, 1710-1755 MHz, 1755-1780 MHz, 1915-1920 MHz, 1995-2000 MHz, 2000-2020 MHz, 2110-2155 MHz, 2155-2180 MHz, and 2180-2200 MHz bands; additionally, under these rules, all operation in the above bands is subject to international agreements with Mexico and Canada. These rules also impose separate power limit restrictions on stations operating in the Broadband Radio Service and Educational Broadband Service, in addition to specifying the attenuation requirement relating to out-of-band emissions for stations operating in the 600 MHz band and the 698-746 MHz band.

Need: In providing protection for adjacent operators, these rules protect television stations from interference and ensure that consumers continue to benefit from television broadcasts.

Legal Basis: 47 U.S.C. 154, 301, 302(a), 303, 307, 309, 332, 336, 337, 1403, 1404, 1451, 1452.

Section Numbers and Titles:

27.50(d), (h) Power limits and duty cycle.

27.53(g), (l) Emission limits.

27.55(a)(4) Power strength limits.

27.57(c) International coordination.

Subpart L—1695-1710 MHz, 1710-1755 MHz, 1755-1780 MHz, 2110-2155 MHz, 2155-2180 MHz, 2180-2200 MHz Bands

Brief Description: Part 27 contains service and licensing rules for Miscellaneous Wireless Communications Services. Subpart L contains specific rules applicable to AWS-1 (Advanced Wireless Service) stations operating in the 1710-1755/2110-2155 MHz band, and rules applicable to AWS-3 stations operating in the 1695-1710 and 1755-1780/2155-2180 MHz bands and to AWS-4 stations operating in the 2000-2020/2180-2200 MHz bands.

Need: The revised rules establish licensing and competitive bidding rules for the AWS-1, AWS-3 and AWS-4 bands, as well as rules regarding protection and relocation of incumbent operations in these frequency bands. The need for these rules is ongoing.

Legal Basis: 47 U.S.C. 154, 301, 302, 303, 307, 309, 332, 336, 337, 1403, 1404 and 1451.

Section Numbers and Titles:

27.1101 1710-1755 MHz and 2110-2155 MHz bands subject to competitive bidding.

27.1102 Designated Entities in the 1710-1755 MHz and 2110-2155 MHz bands.

27.1111 Relocation of fixed microwave service licensees in the 2110-2150 and 2160-2200 MHz bands.

27.1131 Protection of part 101 operations.

27.1132 Protection of incumbent operations in the 2150-2160/62 MHz band.

27.1133 Protection of part 74 and part 78 operations.

27.1134 Protection of Federal Government operations.

27.1135 Protection of non-Federal Government Meteorological-Satellite operations.

Subpart M—Broadband Radio Service and Educational Broadband Service

Brief Description: Part 27 contains service and licensing rules for Miscellaneous Wireless Communications Services. Subpart M contains specific rules applicable to the Broadband Radio Service (BRS) and Educational Broadband Service (EBS) that operate in the 2500-2690 MHz band.

Need: The rules establish service, licensing, competitive bidding and technical rules for BRS and EBS. The rules also establish policies governing transition of 2500-2690 MHz band to use by BRS and EBS. Prior to January 10, 2005 these frequencies had been assigned to the Multipoint Distribution Service (MDS) and the Multichannel Multipoint Distribution Service (MMDS) and the Instructional Television Fixed Service (ITFS). The need for these rules is ongoing.

Legal Basis: 47 U.S.C. 154, 301, 302, 303, 307, 309, 332, 336, 337, 1403, 1404 and 1451.

Section Numbers and Titles:

27.1200 Change to BRS and EBS.

27.1201 EBS eligibility.

27.1202 Cable/BRS cross-ownership.

27.1203 EBS programming requirements.

27.1206 Geographic Service Area.

27.1207 BTA license authorization.

27.1208 BTA service areas.

27.1209 Conversion of incumbent EBS and BRS stations to geographic area licensing.

27.1210 Remote control operation.

27.1211 Unattended operation.

27.1212 License term.

27.1213 Designated entity provisions for BRS in Commission auctions commencing prior to January 1, 2004.

27.1214 EBS spectrum leasing arrangements and grandfathered leases.

27.1215 BRS grandfathered leases.

27.1216 Grandfathered E and F group EBS licenses.

27.1217 Competitive bidding procedures for the Broadband Radio Service.

27.1218 Designated entities.

27.1220 Transmission standards.

27.1221 Interference protection.

27.1222 Operations in the 2568-2572 and 2614-2618 bands.

27.1230 Conversion of the 2500-2690 MHz band.

27.1231 Initiating the transition.

27.1232 Planning the transition.

27.1233 Reimbursement costs of transitioning.

27.1234 Terminating existing operations in transitioned markets.

27.1235 Post-transition notification.

PART 32—UNIFORM SYSTEM OF ACCOUNTS FOR TELECOMMUNICATIONS COMPANIES

Brief Description: Part 32 implements section 220 of the Communications Act of 1934, as amended, which requires the Commission to “prescribe a uniform system of accounts for use by telephone companies.” The part 32 rules contain the current Uniform System of Accounts that apply to regulated telephone companies, which were amended in 1986 to respond to the introduction of competition and new products and services in the telecommunications market. Part 32 specifies the asset, revenue and expense accounts that must be maintained.

Need: The Commission initiated a rulemaking on August 18, 2014 to determine whether part 32 rules could be streamlined to reduce regulatory burdens while maintaining access to the data the Commission needs to fulfill its statutory and regulatory obligations. Comprehensive Review of the Part 32 Uniform System of Accounts, 29 FCC Rcd 10638 (2014).

Legal Basis: 47 U.S.C. 154(i) and (j), and 220.

Section Numbers and Titles:

Subpart B—General Instructions

32.16(a) Changes in accounting standards.

32.17 Interpretation of accounts.

32.19 Address for reports and correspondence.

32.24(b) Compensated absences.

32.27(a) Transactions with affiliates.

Subpart C—Instructions for Balance Sheet Accounts

32.101 Structure of the balance sheet accounts.

32.103 Balance sheet accounts for other than regulated-fixed assets to be maintained.

32.1120 Cash and equivalents.

32.1170 Receivables.

32.1171 Allowance for doubtful accounts.

32.1220(g), (h) Inventories.

32.1280 Prepayments.

32.1350 Other current assets.

32.1410 Other noncurrent assets.

32.1438(a) Deferred maintenance and retirements.

32.2000(a)(2), (4), (b)(2)(i), (iii), (iv), (c)(2)(x), (xiii), (d)(2)(i), (4), (5), (f)(3)(i), (g)(3), (5), (h)(3), (j) Instructions for telecommunications plant accounts.

32.2003(c) Telecommunications plant under construction.

32.2005(b) Telecommunications plant adjustment.

32.2007(a) Goodwill.

32.2111(f), (g) Land.

32.2210 Central office—switching.

32.2211(a) Non-digital switching.

32.2212(b), (c), (d) Digital electronic switching.

32.2231 Radio systems.

32.2232(b), (c), (d) Circuit equipment.

32.2311(f) Station apparatus.

32.2424(a) Submarine & deep sea cable.

32.2682(c) Leasehold improvements.

32.2690 Intangibles.

32.3000(a)(2), (b) Instructions for balance sheet accounts—Depreciation and amortization.

32.3100(b), (d) Accumulated depreciation.

32.3200(b) Accumulated depreciation—held for future telecommunications use.

32.3300(b), (c) Accumulated depreciation—nonoperating.

32.3410(b), (c) Accumulated amortization—capitalized leases.

32.3999 Instructions for balance sheet accounts—liabilities and stockholders' equity.

32.4000 Current accounts and notes payable.

32.4040(b) Customers' deposits.

32.4070 Income taxes—accrued.

32.4080 Other taxes—accrued.

32.4110(c), (f) Net current deferred nonoperating income taxes.

32.4130 Other current liabilities.

32.4200 Long term debt and funded debt.

32.4300 Other long-term liabilities and deferred credits.

32.4330 Unamortized nonoperating investment tax credits—net.

32.4341(a), (b)(2) Net deferred tax liability adjustments.

32.4350(b), (e) Net noncurrent deferred nonoperating income taxes.

32.4361 Deferred tax regulatory adjustments—net.

32.4540 Other capital.

Subpart D—Instructions for Revenue Accounts

32.5000 Basic local service revenue.

32.5001 Basic area revenue.

32.5060 Other basic area revenue.

32.5081 End user revenue.

32.5082 Switched access revenue.

32.5083 Special access revenue.

32.5100 Long distance message revenue.

32.5200 Miscellaneous revenue.

32.5230 Directory revenue.

32.5280(c) Nonregulated operating revenue.

32.5300 Uncollectible revenue.

Subpart E—Instructions for Expense Accounts

32.5999(b)(4), (c), (g) General.

32.6110 Network support expenses.

32.6112(b) Motor vehicle expense.

32.6113(b) Aircraft expense.

32.6114(b) Tools and other work equipment expense.

32.6120 General support expenses.

32.6124 General purpose computers expense.

32.6210 Central office switching expenses.

32.6211 Non-digital switching expense.

32.6212 Digital electronic switching expense.

32.6230 Central office transmission expense.

32.6232 Circuit equipment expense.

32.6310 Information origination/termination expenses.

32.6410 Cable and wire facilities expenses.

32.6424 Submarine and deep sea cable expense.

32.6510 Other property, plant and equipment expenses.

32.6512 Provisioning expense.

32.6530 Network operations expense.

32.6560 Depreciation and amortization expenses.

32.6561 Depreciation expense—telecommunications plant in service.

32.6563 Amortization expense—tangible.

32.6564 Amortization expense—intangible.

32.6565 Amortization expense—other.

32.6610 Marketing.

32.6611 Product management and sales.

32.6620 Services.

32.6621 Call completion services.

32.6623 Customer services.

32.6720 General and administrative.

32.6790 Provision for uncollectible notes receivable.

Subpart F—Instructions for Other Income Accounts

32.6999 General.

32.7100 Other operating income and expenses.

32.7200 Operating taxes.

32.7210(b) Operating investment tax credits—net.

32.7240(d), (e), (g) Operating other taxes.

32.7300 Nonoperating income and expense.

32.7400 Nonoperating taxes.

32.7500 Interest and related items.

32.7600 Extraordinary items.

PART 42—PRESERVATION OF RECORDS OF COMMUNICATIONS COMMON CARRIERS

Brief Description: Section 42.10 provides that non-dominant interexchange carriers (IXCs), which category includes providers of commercial mobile radio services (CMRS), must make available to the public, in an easily understood format, and during regular business hours, information on the rates, terms and conditions for all of its international, interstate, domestic, interexchange services.

Need: Section 42.10 is needed to ensure that the information that was formerly contained in the carriers' tariffs and publicly available will continue to be available to users once the carriers have detariffed their services.

Legal Basis: 47 U.S.C. 154(i), 219 and 220.

Section Number and Title:

42.10 Public availability of information concerning interexchange services.

Brief Description: Section 42.11(a) requires non-dominant interexchange carriers (IXCs) to retain price and service information for all their domestic and international interexchange services, and to make such information available to the Commission and state regulators upon request. The section, however, clarifies that one class of IXC, providers of commercial mobile radio services (CMRS) need retain such price and service information only for their international common carrier service operations and only on routes on which they have been classified as dominant under section 63.10 of the rules due to affiliation with a foreign telecommunications carrier that collects settlement payments from U.S. carriers for terminating U.S. international switched traffic at the foreign end of the route. The rule also makes clear that CMRS providers are not required to retain price and service information on affiliated routes (i.e., routed on which they are affiliated with a foreign carrier at the foreign end) if they provide service on that route solely through the resale of international switched telecommunications services that they purchase from an unaffiliated facilities-based provider. Finally the rule states that the price and service information the rule requires subject carriers to retain includes documents supporting the rates terms and conditions of covered services and requires carriers to retain the records in such a way that they can produce such records within 10 days of a request.

Need: Section 42.11 is needed to ensure that a CMRS carrier that is dominant on a particular route because is affiliated with a foreign carrier that collects settlement payments from U.S. carriers for terminating switched international services at the foreign end of the call does not abuse its affiliated position by unfairly routing return traffic to the United States through the affiliated CMRS carrier and thereby to reduce the amount of return traffic and settlement payments other U.S. carriers receive.

Legal Basis: 47 U.S.C. 154(i), 219 and 220.

Section Number and Title:

42.11 Retention of information concerning detariffed interexchange services.

PART 43—REPORTS OF COMMUNICATION COMMON CARRIERS AND CERTAIN AFFILIATES

Brief Description: Part 43 includes requirements that have been promulgated under authority of sections 211 and 219 of the Communications Act of 1934, as amended, with respect to the filing by communication common carriers and certain of their affiliates of periodic reports and certain other data, but do not include certain requirements relating to the filing of information with respect to specific services, accounting systems, and other matters incorporated in other parts of Chapter 47.

Need: Section 43.11(a) sets out the terms by which providers of local exchange telephone service, commercial mobile radio service, and Interconnected Voice over IP service shall complete FCC Form 477 to report data to the Commission concerning those services.

Legal Basis: 47 U.S.C. 154; Telecommunications Act of 1996, Public Law 104-104, secs. 402(b)(2)(B), (c), 110 Stat. 56 (1996) as amended unless otherwise noted. 47 U.S.C. 211, 219, 220 as amended.

Section Number and Title:

43.11 Reports of local exchange competition data.

Brief Description: Section 43.51 imposes on U.S. telecommunications carriers identified in section 43.51(b) a general obligation to file with the Commission, within 30 days of execution thereof, a copy of all contracts, agreements, concessions, licenses, authorizations, operating agreements, or other arrangements (including amendments) to which it is a party with respect to exchange of services, the interchange or routing of traffic, and matters concerning rates, accounting rates, divisions of tolls, or the basis of settlement of traffic balances. Section 43.51(b)(1) provides that the general filing rule applies to domestic dominant carriers. Section 43.51(b)(2) provides that the filing rule applies to U.S. international carriers that have been classified as dominant on any route included in the contract (other than those so classified because of a foreign-carrier affiliation under section 63.10.) Section 43.51(c) provides that contracts for domestic-only service do not need to be filed with the Commission but need to be made available upon reasonable request. Section 43.51(d) states that any U.S. carrier, other than a provider of commercial radio services, that is engaged in foreign communications, and enters into an agreement with a foreign carrier, is subject to the Commission's authority to require the U.S. carrier providing service on any U.S.-international routes to file, on an as-needed basis, a copy of each agreement to which it is a party.

Need: The general rule in section 43.51 that carriers must file copies of their contracts and operating agreements is needed to require domestic dominant carriers to file their contracts and to address issues on the U.S.-Cuba route and more generally allow the Commission to obtain contracts for routes on which there is, or has been an allegation of, anticompetitive conduct. ISP Reform Order, 19 FCC Rcd 5709, 5736 (2009).

Legal Basis: 47 U.S.C. 154, 211, 219 and 220.

Section Number and Title:

43.51 Contracts and concessions.

PART 51—INTERCONNECTION

Subpart D—Additional Obligations of Incumbent Local Exchange Carriers (LECs)

Brief Description: This subsection generally implements section 251(c) of the Communications Act of 1934, as amended. Section 51.323 establishes rules addressing how an incumbent LEC may assign and configure physical collocation space, as well as standards for providing virtual collocation. Paragraph (f)(7) of this section requires incumbent LECs to assign collocation space to requesting carriers in a just, reasonable, and nondiscriminatory manner, to allow each requesting carrier to submit space preferences prior to assigning physical collocation space to that carrier, and to ensure that their space assignment policies and practices meet certain minimum principles. Paragraphs (i)(4)(i) through (v), (5), and (6)(i) establish parameters for certain types of reasonable security measures that the incumbent LEC may adopt as part of its collocation policies to protect its equipment and ensure network reliability. These paragraphs include conditions the incumbent LEC must meet if it restricts physical collocation to space separated from that space housing its own equipment, requires the employees and contractors of collocating carriers to use a central or separate entrance to the incumbent's building, and constructs or requires construction of a separate entrance to access physical collocation space.

Need: These rules are necessary to foster a competitive market in the telecommunications industry, and to promote the deployment of broadband infrastructure and other network investment. These rules also ensure a proper balance of the congressional goal of promoting competition against the need to protect an incumbent LEC's property interests against unwarranted intrusion.

Legal Basis: 47 U.S.C. 151,152, 202, 251(a) and 251(c)(2).

Section Number and Title:

51.323(f)(7), (i)(4)(i) through (v), (i)(5), and (i)(6)(i) Standards for physical collocation and virtual collocation.

Subpart H—Reciprocal Compensation for Transport and Termination of Telecommunications Traffic

Brief Description: The part 51 rules are designed to implement the provisions of sections 251 and 252 of the Communications Act of 1934, as amended. Part 51, subpart H, sets forth the rules regarding reciprocal compensation for the transport and termination of telecommunications traffic between local exchange carriers (LECs) and other carriers. Section 51.711 provides two exceptions to the general rule that the rates for reciprocal compensation must be symmetrical.

The exception in section 51.711(c) provides that a state commission, pending further proceedings before the Commission, must establish the rates that certain licensees may assess upon other carriers for the transport and termination of telecommunications traffic.

Need: Section 51.711(c) was adopted to set forth an exception to the general rule that the rates for reciprocal compensation must be symmetrical.

Legal Basis: 47 U.S.C. 251 and 252.

Section Number and Title:

51.711(c) Symmetrical reciprocal compensation.

Brief Description: The part 51 rules are designed to implement the provisions of sections 251 and 252 of the Communications Act of 1934, as amended. Part 51, subpart H, sets forth the rules regarding reciprocal compensation for the transport and termination of telecommunications traffic between local exchange carriers (LECs) and other carriers. Section 51.715 provides that, upon request from a carrier without an existing interconnection agreement with an incumbent LEC, the incumbent LEC must provide transport and termination of telecommunication traffic immediately under an interim arrangement pending resolution of negotiation or arbitration regarding transport and termination rates and approval of such rates by a state commission. Section 51.715 specifies that an interim arrangement will cease to be in effect when certain situations outlined in the section occur with respect to rates for transport and termination of telecommunications traffic subject to the interim arrangement.

Need: Section 51.715(c) was adopted to clarify interim transport and termination pricing under a variety of scenarios.

Legal Basis: 47 U.S.C. 251 and 252.

Section Number and Title:

51.715 Interim transport and termination pricing.

PART 52—NUMBERING

Subpart B—Administration

Brief Description: These rules implement the requirements of section 251(e) of the Communications Act of 1934, as amended, which gives the Commission exclusive jurisdiction over those portions of the North American Numbering Plan that pertain to the United States. Section 52.15 provides the rules governing management and administration of U.S. Central Office code numbering resources. Paragraph (g)(4) of this section establishes procedures to address carrier noncompliance with these rules. Paragraph (g)(5) of this section establishes procedures for state regulatory commissions to obtain access to service providers' applications for numbering resources. Paragraph (h) establishes a national utilization threshold for growth numbering resources, and paragraph (k) sets forth rules for numbering audits to verify carrier compliance with Commission regulations and applicable industry guidelines relating to numbering administration.

Need: These rules provide a framework for ensuring fair and impartial access to numbering resources, which is a critical component of encouraging a competitive telecommunications market in the United States.

Legal Basis: 47 U.S.C. 151, 152 and 251(e).

Section Number and Title:

52.15(g)(4)-(5), (h), and (k) Central office code administration.

Subpart C—Number Portability

Brief Description: These rules implement the requirements of section 251(b)(2) of the Communications Act of 1934, as amended, which requires all LECs “to provide, to the extent technically feasible, number portability in accordance with the requirements prescribed by the Commission.” Section 52.21 provides the definitions governing the number portability rules. Paragraph (a) sets forth the definition of the term 100 largest MSAs, as used in this subpart.

Need: This subpart provides rules that are designed to ensure that users of telecommunications services can retain, at the same location, their existing telephone numbers when they switch from one local exchange telecommunications carrier to another. In implementing statutory requirements for number portability, these rules provide necessary information regarding terms that may have different definitions outside the number portability context.

Legal Basis: 47 U.S.C. 151, 152, 251(e).

Section Number and Title:

52.21(a) Definitions 100 largest MSAs.

Brief Description: Section 52.33 permits incumbent local exchange carriers (LECs) to file tariffs with the Commission establishing a monthly number-portability charge, a number-portability query-service charge, and a number-portability query/administration charge, to recover carrier specific costs directly related to providing long-term number portability. Section 52.33(a)(3) specifies that incumbent local exchange carriers serving an area outside the 100 largest MSAs that do not yet provide local number portability (LNP) functionality but provide Extended Area Service (EAS) may recover their query and LNP Administration costs through end-user charges, and that the carrier can assess such charges for a maximum of five years. The subsection also allows all interconnected VoIP providers and telecommunications carriers that are not incumbent LECs to recover such costs in any manner consistent with state and federal law and regulation.

Need: In implementing the statutory requirements for number portability and the promotion of local exchange competition, this rule permits telecommunications carriers to recover the costs of providing long-term number portability in a competitively neutral manner, as required by section 251(e) of the Communications Act of 1934, as amended.

Legal Basis: 47 U.S.C. 153,154, 201-205, 207-209, 218, 225-227, 251-252, 271, and 332.

Section Number and Title:

52.33(a)(3) Recovery of carrier-specific costs directly related to providing long-term number portability.

PART 54—UNIVERSAL SERVICE

Subpart A—General Information

Brief Description: These rules provide general information regarding the Universal Service Fund, including various terms and definitions that are referenced throughout part 54 of the Commission's rules.

Need: In implementing statutory requirements for the Universal Service Fund, these rules provide necessary information regarding terms that may have different definitions outside the universal service context.

Legal Basis: 47 U.S.C. 254.

Section Number and Title:

54.5 Terms and definitions.

Brief Description: Part 54 implements section 254 of the Communications Act of 1934, as amended, which provides financial support to four different universal service programs. Section 54.8 provides rules for denying support to entities that have been convicted of fraud or other criminal activities related to the four universal service programs.

Need: Denying bad actors support from the four universal service programs should deter waste, fraud, and abuse, thus helping to protect the integrity of the programs and to help ensure that support is used only in furtherance of the purposes of the four programs.

Legal Basis: 47 U.S.C. 151-154, 201-205, 214, 254, and 403.

Section Number and Title:

54.8 Prohibition on participation: suspension and debarment. [Originally adopted as 54.521—in 2003, addressing only violations of the E-rate program. In 2007 it was expanded to cover all 4 universal service programs and moved to 54.8.]

Subpart D—Universal Service Support for High Cost Areas

Brief Description: These rules specify the requirements for the High Cost support mechanism. These rules provide requirements for how High Cost support will be calculated and distributed to eligible telecommunications providers, as well as reporting and certification requirements about the use of such support and the application process to receive such support in certain instances.

Need: In implementing statutory requirements for the High Cost Program of the Universal Service support mechanism, these rules ensure that rates in rural, insular and high cost areas, are “reasonably comparable” to rates charged for similar services in urban areas.

Legal Basis: 47 U.S.C. 254(b).

Section Numbers and Titles:

54.305 Sale or transfer of exchanges.

54.307 Support to a competitive eligible telecommunications carrier.

54.313 Annual reporting requirements for high-cost recipients.

54.314 Certification of support for eligible telecommunications carriers.

54.315 Application process for phase II support distributed through competitive bidding.

Subpart F—Universal Service Support for Schools and Libraries

Brief Description: Part 54 implements section 254 of the Communications Act of 1934, as amended, which provides financial support to four different universal service programs. Subpart F of the rules implementing section 254, creates and regulates the E-rate program, known more formally as the schools and libraries universal service support mechanism. It provides discounts to schools and libraries for access to broadband and related services. The annual Eligible Services List and section 54.506(a) specifies what types of service are eligible for E-rate support, which include telecommunications services, telecommunications, Internet access, internal connections, basic maintenance and managed internal broadband services internal connections. Section 54.506(b) clarified what basic maintenance services were eligible for E-rate support: those that were basic and needed to maintain the internal connections in working order. Section 54.502(c), formerly 54.506(c), limits the frequency that an applicant may receive funding for internal connections (category two services) to no more than twice in a five-year period (the “2 in 5” rule). Although it has not been rescinded, the E-rate program established five-year budgets starting in 2015 (based on student count and library size) for applicants requesting E-rate funding for internal connections and, thus, the “2 in 5” rule is not applicable to those applicants purchasing internal connections (category two services) until after applicants' five-year budget cycles area completed, absent further action from the Commission.

Need: The Commission wanted to provide guidance on what services were eligible for E-rate support, but not to fund any extras, given the limited size of the universal service fund. The Commission also seeks to prevent applicants from wastefully replacing internal connections more frequently than needed. The current five-year budget cap (54.502(b)(1)) currently replaces the “2 in 5” rule, but the “2 in 5” rule will return absent Commission action starting in funding year 2019.

Legal Basis: 47 U.S.C. 151-154, 201-205, 214, 254, and 403.

Section Numbers and Titles:

54.500 Terms and Definitions.

54.502(a)-(c) Eligible Services.

The annual E-rate Eligible Services List (ESL) [formerly 54.506(a)-(b)].

Brief Description: Part 54 implements section 254 of the Communications Act of 1934, as amended, which provides financial support to four different universal service programs. Subpart F of the rules implementing section 254, creates and regulates the E-rate program, known more formally as the schools and libraries universal service support mechanism. It provides discounts to schools and libraries for access to broadband and related services. Section 54.514 requires service providers to give applicants the choice each funding year to pay either: (1) The discounted price; or (2) the full price and then receive reimbursement through the Billed Entity Applicant Reimbursement (BEAR) process. It also directed service providers to pass any such reimbursements back to applicants within 20 days of receiving them.

Need: The Commission found that providing applicants, rather than service providers, with the right to choose which payment method to use would help to ensure that all schools and libraries have affordable access to telecommunications and Internet access services because some applicants appeared unable to afford to pay the full undiscounted price up front, and then wait for a reimbursement.

Legal Basis: 47 U.S.C. 151-154, 201-205, 214, 254, and 403.

Section Number and Title:

54.514 Payment for discounted services.

Brief Description: Part 54 implements section 254 of the Communications Act of 1934, as amended, which provides financial support to four different universal service programs. Subpart F of the rules implementing section 254, creates and regulates the E-rate program, known more formally as the schools and libraries universal service support mechanism. It provides discounts to schools and libraries for access to broadband and related services. Section 54.516 concerns program auditing and requirements that applicants and service providers retain all records relevant to E-rate supported purchases for 10 years and be available for audits and compliance inspections.

Need: In its July 2014 E-Rate Modernization Order, the Commission reiterated its commitment to protecting the universal service fund against waste, fraud, and abuse, and extended the time period over which applicants and service providers must retain records associated with E-rate supported purchases from 5 years to 10 years. The Order explained that the 5-year requirement was not adequate for purposes of litigation under the False Claims Act.

Legal Basis: 47 U.S.C. 151-154, 201-205, 214, 254, and 403.

Section Number and Title:

54.516 Auditing and inspections.

Brief Description: This rule implements the requirements for the Children's Internet Protection Act (CIPA) for participation in the E-rate program, known more formally as the schools and libraries universal service support mechanism. Specifically, schools and libraries with computers with Internet access must certify that they have in place certain Internet safety policies and technology protection measures in order to be eligible for certain E-rate services.

Need: Implements CIPA in a manner consistent with Congress's intent to ensure that schools and libraries receive discounts for eligible E-rate services and is crafted in the most practical and efficacious way possible to provide schools and libraries with maximum flexibility in determining the best approach to be compliant.

Legal Basis: 47 U.S.C. 254(h)(1)(B).

Section Number and Title:

54.520 Children's Internet Protection Act certifications required from recipients of discounts under the federal universal service support mechanism for schools and libraries.

Subpart H—Administration

Brief Description: These rules specify the requirements regarding the Universal Service Administrative Company, as the permanent Administrator for the Universal Service support mechanism. These rules establish the Administrator's functions and responsibilities, as well as the composition of the Administrator's Board of Directors and Committees. These rules also establish requirements regarding contributions and contributor reporting requirements.

Need: In implementing statutory requirements for the Universal Service support mechanism, these rules provide the framework and requirements for the administration of the program.

Legal Basis: 47 U.S.C. 254.

Section Numbers and Titles:

54.701 Administrator of universal service support mechanisms.

54.702 Administrator's functions and responsibilities.

54.705 Committees of the Administrator's Board of Directors.

54.709 Computations of required contributions to universal service support mechanisms.

54.711 Contributor reporting requirements.

54.715 Administrative expenses of the Administrator.

PART 61—TARIFFS

Subpart A—General

Brief Description: The Part 61 rules are designed to implement the provisions of sections 201, 202, 203, and 204 of the Communications Act of 1934, as amended, and help ensure that rates are just, reasonable, and not unjustly or unreasonably discriminatory. These rules govern the filing, form, content, public notice periods, and accompanying support materials for tariffs. Section 61.1 sets out the framework that governs tariff publications and their revisions.

Need: Section 61.1(b) sets out provisions for tariff publication conformance, including the payment of statutory charges and the use of FCC registration numbers.

Legal Basis: 47 U.S.C. 151, 154(i), 154(j), 201-205 and 403.

Section Number and Title:

61.1(b) Purpose and application.

Brief Description: Section 61.3(z) defines “non-dominant carrier” as a carrier that the Commission has not affirmatively found to be dominant. A dominant carrier is one that the Commission has found to have market power—the ability to distort a market for a particular common carrier service. The rule also makes clear that the nondominant status of a carrier for the purposes of Subpart A is not affected by a carrier's classification as dominant under section 63.10 of the rules.

Need: The definition in the rule is used to determine which carriers need not file tariffs for their international and interexchange services.

Legal Basis: 47 U.S.C. 151, 154(i), 154(j), 201-205 and 403.

Section Number and Title:

61.3 Definitions.

Subpart C—General Rules for Nondominant Carriers

Brief Description: Section 61.19 provides that nondominant providers of international and interstate, domestic interexchange services are generally not permitted to file tariffs for such services. Paragraphs (b) through (e) of section 61.19 identify particular classes of nondominant carriers that may continue to file tariffs for their services. Section 61.19(b) provides that carriers that are nondomiunant in the provisi0on of international carriers may file tariffs for their international 1+ dialaround. Section 61.19(c) provides that carriers that are nondominant in the provision of international and domestic, interexchange service may file a tariff for services applicable to customers who contact the local exchange carrier to designate an interexchange carrier or to change a carrier and provide service to such customers for up to 45 days while the nondominant carrier and the customers conclude a written agreement covering the service. Section 61.19(d) provides that carriers that are nondominant in the provision of international telephone calls to the United States may file a tariff for such services. Section 61.19(e) provides that carriers that are nondominant in the provision of “on demand” mobile satellite services may file a tariff for customers who have not entered into preexisting service contracts designating a specific provider for such services.

Need: The rule is necessary to implement the Commission's policy to rely upon competition among carriers, providing telecommunications services through individual contracts, to assure just and reasonable rates for such services, rather than upon a regulated tariff. The use of such contracts gives the carriers greater flexibility to meet specific customer needs, while open competition ensures that carriers do not unjustly favor one customer over another. The exceptions to the general rule listed in paragraphs (b) through (e) of section 61.19 are needed to deal with specific, largely short-term situations where reliance upon a contract could delay the initiation of service to a particular user.

Legal Basis: 47 U.S.C. 151, 154(i), 154(j), 201-205 and 403.

Section Number and Title:

61.19 Detariffing of international and interstate, domestic interexchange services.

Subpart D—General Tariff Rules for International Dominant Carriers

Brief Description: The part 61 rules are designed to implement the provisions of sections 201, 202, 203, and 204 of the Communications Act of 1934, as amended, and help ensure that rates are just, reasonable, and not unjustly or unreasonably discriminatory. These rules govern the filing, form, content, public notice periods, and accompanying support materials for tariffs. Section 61.28 provides general tariff rules for carriers classified as dominant for the provision of particular international communication services on a particular route for any reason other than a foreign carrier affiliation. The section specifies that the provisions under which these carriers must file tariffs for these services.

Need: Section 61.28 was adopted to provide the appropriate tariff regulations for carriers classified as dominant for the provision of particular international communication services on a particular route for any reason other than a foreign carrier affiliation

Legal Basis: 47 U.S.C. 151, 154(i), 154(j), 201-205 and 403.

Section Number and Title:

61.28 International dominant carrier tariff filing requirements.

Subpart E—General Rules for Dominant Carriers

Brief Description: The part 61 rules are designed to implement the provisions of sections 201, 202, 203, and 204 of the Communications Act of 1934, as amended, and help ensure that carriers' rates are just, reasonable, and not unjustly or unreasonably discriminatory. These rules govern the filing, form, content, public notice periods, and accompanying support materials for tariffs. Section 61.41(e) modifies the all-or-nothing rule applicable to incumbent local exchange carriers to permit a limited exception when a rate-of-return carrier acquires lines from a price cap carrier and elects to bring the acquired lines into rate-of-return regulation. The rule, as amended, will permit the acquiring carrier to convert the price cap lines back to rate-of-return regulation.

Need: Section 61.41(e) was adopted to address the situation when a rate-of-return carrier seeks to return acquired price cap lines to rate-of-return regulation, the problems that the all-or-nothing rule sought to prevent do not exist, or can be addressed in a less burdensome way. Because the carrier wishes to have all of its lines be subject to rate-of-return regulation, there can be no danger of cost shifting between price cap and non-price cap affiliates. Similarly, a rate-of-return carrier in this position is not necessarily seeking to game the system by moving back and forth between different regulatory regimes. However, because of the possibility that the acquiring rate-of-return carrier could later seek to return to price cap regulation, thereby potentially gaming the system, the rule provides that once a rate-of-return carrier brings acquired price cap lines into rate-of-return regulation, it may not for five years elect price cap regulation for itself, or by any means cause the acquired lines to become subject to price cap regulation, without first obtaining a waiver. This restriction addresses concerns underlying the adoption of the all-or-nothing rule, while not requiring that the election be unnecessarily irreversible.

Legal Basis: 47 U.S.C. 151, 154(i), 154(j), 201-205, and 403.

Section Number and Title:

61.41(e) Price cap requirements generally.

Subpart G—Specific Rules for Tariff Publications of Dominant and Nondominant Carriers

Brief Description: The part 61 rules are designed to implement the provisions of sections 201, 202, 203, and 204 of the Communications Act of 1934, as amended, and help ensure that rates are just, reasonable, and not unjustly or unreasonably discriminatory. These rules govern the filing, form, content, public notice periods, and accompanying support materials for tariffs. Section 61.74 provides for two exceptions to the general rule that tariff publications filed with the Commission are not permitted to reference other tariffs or documents. The exception in section 61.74(d) permits tariffs to “reference other FCC tariffs . . . for purposes of determining mileage, or specifying the operating centers at which a specific service is available.” The exception in section 61.74(e) permits tariffs to reference technical publications that describe engineering or other technical aspects of a service under certain conditions.

Need: Sections 61.74(d) and (e) were adopted to assist carriers by detailing the limited instances when a tariff filing entity may make reference to any other tariff document or instrument in a tariff publication.

Legal Basis: 47 U.S.C. 151, 154(i), 154(j), 201-205 and 403.

Section Number and Title:

61.74(d) and (e) References to other instruments.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS EXTENSIONS AND SUPPLEMENTS

Brief Description: The part 63 rules establish streamlining procedures for processing domestic common carrier applications to transfer control of lines or authorization to operate.

Need: Section 63.03 informs licensees of the process for requesting streamlined processing for applications for domestic common carriers to transfer control of lines or authorization to operate.

Legal Basis: 47 U.S.C. 151, 154(i), 154(j), 201-205, 214, 218, 403, and 571.

Section Number and Title:

63.03 Streamlining procedures for domestic transfer of control applications.

Brief Description: The part 63 rules establish content requirements for domestic common carrier applications to transfer control of lines or authorization to operate.

Need: Establishes procedures for submitting the correct information necessary to process domestic common carrier applications to transfer control of lines or authorization to operate.

Legal Basis: 47 U.S.C. 151, 154(i), 154(j), 201-205, 214, 218, 403, and 571.

Section Number and Title:

63.04 Filing procedures for domestic transfer of control applications.

Brief Description: The part 63 rules below set forth definitions, requirements, and conditions applicable to international section 214 applications and authorizations to provide global facilities-based and global resale services, as well as provisions regarding requests for designation as a recognized private operating agency. The rules pertain to the regulatory classification of U.S. international carriers; notification and prior approval requirements for U.S. international carriers that are or propose to become affiliated with a foreign carrier; procedures for processing international section 214 applications; special provisions for U.S. international common carriers; contents of applications for international common carriers; special procedures for discontinuances of international services; special provisions relating to temporary or emergency service by international carriers; and related issues. The rules also require carriers to file all notifications and other filings electronically through the International Bureau Filing System (IBFS).

Need: These rules are needed to provide the framework applicable to international section 214 authorizations and establish the general applications, procedures, conditions and restrictions to ensure that carriers and affiliates providing services on international routes meet statutory requirements for designated global facilities-based and global resale telecommunication services.

Legal Basis: 47 U.S.C. 151, 154(i), 154(j), 160, 201-205, 214, 218, 403, and 571, unless otherwise noted.

Section Numbers and Titles:

63.09, Note 2 Definitions applicable to international Section 214 authorizations.

63.10(d), (e) Regulatory classification of U.S. international carriers.

63.11(d), (g)-(j) Notification by and prior approval for U.S. international arriers that are or propose to become affiliated with a foreign carrier.

63.12(c)(3) Processing of international Section 214 applications.

63.14(c) Prohibition on agreeing to accept special concessions.

63.17(b) introductory text, (b)(1)-(2), (b)(4) Special provisions for U.S. international common carriers.

63.18 introductory text, (e)(3), (g), Note to paragraph (h) Contents of applications for international common carriers.

63.19 Special procedures for discontinuances of international services.

63.20(a) Electronic filing, copies required; fees; and filing periods for international service providers.

63.21(h)-(i) Conditions applicable to all international Section 214 authorizations.

63.22(a)-(c), (e)-(f) Facilities-based international common carriers.

63.23(a)-(b), (d) Resale-based international common carriers.

63.24 Assignments and transfers of control.

63.25(b), (d)(2) Special provisions relating to temporary or emergency service by international carriers.

63.51 Additional information.

63.53(a)(1)-(2), (b)-(c) Form.

63.60(d) (currently (g)) Definitions.

63.701 introductory text Contents of application.

PART 64—MISCELLANEOUS RULES RELATING TO COMMON CARRIERS

Subpart F—Telecommunications Relay Services and Related Customer Premises Equipment for Persons With Disabilities

Brief Description: Under Title IV of the Americans with Disabilities Act of 1990, codified as section 225 of the Communications Act of 1934, as amended, Congress requires that the Commission ensure that Telecommunications Relay Service (TRS) is available, to the extent possible and in the most efficient manner, to individuals with hearing and speech disabilities in the United States. Section 225 defines TRS to be a telephone transmission service that provides the ability for an individual with a hearing or speech disability to engage in communication by wire or radio with a hearing individual in a manner functionally equivalent to someone without such a disability. To fulfill this mandate, the Commission first issued rules in 1991. TRS has been available on a uniform, nationwide basis since July 26, 1993. In 1997, the Commission adopted use of the 711 dialing code for nationwide access to TRS that uses the public switched telephone network, so as to facilitate greater and universal access to TRS for individuals with hearing and speech disabilities. In 2000, the Commission added “711” to the definitions set forth in its TRS rules, found at 47 CFR 64.601 et. seq.

Need: Section 64.601 enables individuals with hearing and speech disabilities greater access to telecommunications service by allowing TRS users to dial 711 anywhere in the United States without the need to dial a dedicated TRS access number for each state TRS program.

Legal Basis: 47 U.S.C. 151, 154, 201-205, 218, 225, 251(e)(1) and 303(r).

Section Number and Title:

64.601(a)(1) Definitions and provisions of general applicability.

Subpart I—Allocation of Costs

Brief Description: The part 64, subpart I rules describe obligations of carriers to allocate their regulated and unregulated costs and of certain incumbent local exchange carriers (LECs) to file cost allocation manuals and perform audits. Section 64.905 requires mid-size LECs to file annually a certification with the Commission stating that they are complying with the allocation of cost requirements in section 64.901 of the Commission's rules.

Need: Section 64.905 eliminates the requirement that the mid-sized LECs incur the expense of an attest audit every two years for their cost allocation manuals. Instead, the mid-sized LECs are required to file an annual certification of compliance.

Legal Basis: 47 U.S.C. 154, 254(k), 403(b)(2)(B) and (c).

Section Number and Title:

64.905 Annual certification.

Subpart K—Changes in Preferred Telecommunications Service Providers

Brief Description: These rules implement section 258 of the Communications Act of 1934 (Act), as amended, which prohibits any telecommunications carrier from submitting or executing an unauthorized change in a subscriber's selection of a provider of telephone exchange service or telephone toll service (“slamming”). Section 64.1100 defines terms as used in this subpart, and paragraph (h) specifically defines the term “subscriber” as the party identified in the account records as responsible for payment of the bill; any adult person authorized by such party to change telecommunications services or to charge services to the account; or any person contractually or otherwise lawfully authorized to represent such party.

Need: Slamming enables those companies who engage in fraudulent activity to increase their customer and revenue bases at the expense of consumers and law-abiding companies. The rules in subpart K improve the carrier change process for consumers and carriers alike, while making it more difficult for unscrupulous carriers to perpetrate slams.

Legal Basis: 47 U.S.C. 151, 152 and 258.

Section Number and Title:

64.1100 Definitions.

Brief Description: This rule governs the unauthorized switching of subscribers' preferred telecommunications carriers, commonly known as “slamming.” Section 64.1110 sets forth the procedures a state must use to notify the Commission of the state's intention to administer the Commission's slamming rules.

Need: This rule seeks to protect consumers and authorized carriers from the confusion, inconvenience, and lost revenue associated with a slam, and to ensure that unauthorized carriers do not profit from slamming activities.

Legal Basis: 47 U.S.C. 151, 154, 201-205, 258 and 303(r).

Section Number and Title:

64.1110 State notification of election to administer FCC rules.

Brief Description: These rules govern the unauthorized switching of subscribers' preferred telecommunications carriers, an activity more commonly known as “slamming.” These rules are designed to take the profit out of slamming, and to protect consumers and authorized carriers from unauthorized carrier changes by ensuring that consumers have verified their intent to switch providers when authorizing a carrier change. The rules require all interexchange carriers to institute verification procedures before submitting a carrier change request on behalf of a customer. Section 64.1120 sets forth procedures for verifying orders for telecommunication service. Section 64.1130, originally promulgated as 64.1160, details the use of letters of agency as a form of authorizing and/or verifying a subscriber's request to change his or her preferred carrier selection. Section 64.1140 sets forth carrier and subscriber liability for charges resulting from slamming. Section 64.1150 sets forth procedures for resolving unauthorized changes in a preferred carrier. Section 64.1160 sets forth absolution procedures where the subscriber has not paid charges to the unauthorized carrier. Section 64.1170 sets forth procedures for reimbursing subscribers who have already paid charges to an unauthorized carrier. The Commission removed Section 64.1180. Section 64.1195 requires carriers that provide interstate telecommunications service to file certain business information, including business names, addresses, contact persons, and the states in which the carrier provides service, with the Commission in accordance with the procedures described in this section and the instructions to FCC Form 499-A.

Need: These rules are intended to deter and ultimately eliminate unauthorized changes in subscribers telecommunications carriers. The rules absolve subscribers of liability for slamming charges in order to ensure that carriers do not profit from slamming activities, and seek to protect consumers from the confusion and inconvenience they would experience as a result of being slammed. Maintaining the registration information required in this section facilitates enforcement of the slamming rules.

Legal Basis: 47 U.S.C. 151, 152, 154, 201-205, 218, 258 and 303(r).

Section Numbers and Titles:

64.1120 Verification of orders for telecommunication service.

64.1130 Letter of agency form and content.

64.1140 Carrier liability for slamming.

64.1150 Procedures for resolution of unauthorized changes in preferred carriers.

64.1160 Absolution procedures where the subscriber has not paid charges.

64.1170 Reimbursement procedures where the subscriber has paid charges.

64.1195 Registration requirement.

Subpart L—Restrictions on Telemarketing, Telephone Solicitation, and Facsimile Advertising

Brief Description: The Telephone Consumer Protection Act (TCPA) was enacted to address certain telemarketing practices, including calls to wireless telephone numbers, which Congress found to be an invasion of consumer privacy and even a risk to public safety. In the TCPA, Congress created a balance between individual privacy rights and legitimate telemarketing practices. The Commission crafted rules in 1992 to achieve this balance. Subsequently, the Commission has revised and amended the rules that it adopted in 1992 pursuant to the TCPA, including the establishment of a national do-not-call list to carry out Congress' TCPA directives.

Need: These rules are consistent with the requirements under the TCPA and provide consumers with additional options for avoiding unwanted telephone solicitations. These additional options include, among other things, prohibiting telephone calls to a telephone number registered on the national do-not-call registry of persons who do not wish to receive telephone solicitations. These rules strike an appropriate balance between maximizing consumer privacy protections and avoiding imposing undue burdens on telemarketers.

Legal Basis: 47 U.S.C. 151-154, 222, 227, and 303(r).

Section Numbers and Titles:

64.1200 Delivery restrictions.

64.1201 Restrictions on billing name and address disclosure.

Subpart M—Provision of Payphone Service

Brief Description: The part 64, subpart M rules describe payphone compensation obligations between carriers and payphone service providers in the provision of payphone services.

Section 64.1300(a) defines a “Completing Carrier” for purposes of determining payphone service compensation requirements and methodology under subpart M rules.

Need: The section 64.1300(a) definition of “Completing Carrier” was adopted to help ensure that payphone service providers are fairly compensated for payphone-originated calls that are completed, as required under section 276 of the Communications Act.

Legal Basis: 47 U.S.C. 276.

Section Number and Title:

64.1300(a) Payphone compensation obligation.

Brief Description: The part 64, subpart M rules describe payphone compensation obligations between carriers and payphone service providers in the provision of payphone services. Section 64.1301 establishes a default compensation amount per payphone per month for access code and subscriber toll-free calls, allocates this monthly amount among the designated payors of per-payphone compensation, sets forth certain compensation offset issues, and provides for the valuation of payphone assets transferred by local exchange carriers to a separate affiliate or division.

Need: Section 64.1301 was adopted to help ensure that payphone service providers are fairly compensated for payphone-originated calls that are completed, as required under section 276 of the Communications Act of 1934, as amended.

Legal Basis: 47 U.S.C. 154, 254(k), 403(b)(2)(B) and (c).

Section Number and Title:

64.1301 Per-payphone compensation.

Subpart P—Calling Party Telephone Number; Privacy

Brief Description: This rule requires telemarketers to transmit caller identification information and prohibits telemarketers from blocking the transmission of caller identification information. Under this rule, caller identification information must include either Automated Number Identification (ANI) or Calling Party Number (CPN) and, when available by the telemarketer's carrier, the name of the telemarketer.

Need: This rule requiring telemarketers to transmit caller identification information permits consumers to screen out unwanted calls and to identify companies that they wish to ask not to call again. Additionally, knowing the identity of the caller is also helpful to consumers who feel frightened or threatened by hang-up and “dead air” calls. Caller identification information also should increase accountability and provide an important resource for use in pursuing enforcement actions.

Legal Basis: 47 U.S.C. 151-154, 227, and 303(r).

Section Number and Title:

64.1601(e) Delivery requirements and privacy restrictions.

Subpart U—Customer Proprietary Network Information

Brief Description: Subpart U implements the provisions of section 222 of the Act concerning customer proprietary network information (CPNI). Section 64.2008 establishes the notification procedures and requirements carriers must adhere to in providing notice of customers' rights to restrict the use of, disclosure of, and access to that customer's CPNI.

Need: The CPNI regulations in section 222 are largely consumer protection provisions that establish restrictions on carrier use and disclosure of personal customer information. The statutory design expressly recognizes the duty of all carriers to protect customer information and embodies the principle that customers must be able to control information they view as sensitive and personal from use, disclosure, and access by carriers. These rules further Congress' goals of fostering competition in telecommunications markets and ensuring the privacy of customer information.

Legal Basis: 47 U.S.C. 222.

Section Number and Title:

64.2008 Notice required for use of customer proprietary network information.

Brief Description: Subpart U implements the provisions of section 222 of the Act concerning customer proprietary network information (CPNI). Section 64.2009 generally establishes safeguards carriers must implement to protect their customers from the carriers' use of customer CPNI. Paragraph (f) sets forth the notification procedures carriers must follow to notify the Commission in any instance where the carrier's CPNI opt-out approval mechanism for customers does not work properly.

Need: The CPNI regulations in section 222 are largely consumer protection provisions that establish restrictions on carrier use and disclosure of personal customer information. The statutory design expressly recognizes the duty of all carriers to protect customer information and embodies the principle that customers must be able to control information they view as sensitive and personal from use, disclosure, and access by carriers. These rules further Congress' goals of fostering competition in telecommunications markets and ensuring the privacy of customer information.

Legal Basis: 47 U.S.C. 222.

Section Number and Title:

64.2009(f) Safeguards required for use of customer proprietary network information.

Subpart Y—Truth-in-Billing Requirements for Common Carriers; Billing for Unauthorized Charges

Brief Description: These rules govern the billing practices of telecommunications service providers. The rules provide that consumer telephone bills must be clearly organized, clearly identify the service provider, and highlight any new providers. In addition, the rules require that bills contain full and non-misleading descriptions of charges that appear therein. Where a bill contains charges for basic local service in addition to other charges, the rules require that the bill distinguish between charges for which non-payment will result in disconnection of basic, local service, and charges for which non-payment will not result in such disconnection. Bills must also contain clear and conspicuous disclosure of any information the consumer may need to make inquiries about, or contest charges, on the bill, including a toll-free number by which subscribers may inquire or dispute any charges on the bill.

Need: These rules are intended to reduce slamming and other telecommunications fraud by setting standards for bills for telecommunications service. They are designed to ensure that consumers are provided with the basic information they need to understand their telecommunications bills. They are also intended to provide consumers with the tools they need to make informed choices in a competitive telecommunications marketplace.

Legal Basis: 47 U.S.C. 151, 154(i) and (j), 201-209, 254, 258 and 403.

Section Number and Title:

64.2400(b) Purpose and scope.

Brief Description: In 1999, the Commission adopted rules to govern the billing practices of telecommunications service providers. In 2000, the Commission amended and renumbered certain of those rules, and in so doing created a new section 64.2401(e) from text previously existing in those rules. Among other requirements, the rules provide that bills must contain clear and conspicuous disclosure of any information the consumer may need to make inquiries about, or contest, charges on the bill, and section 64.2401(e) defines “clear and conspicuous” as “notice that would be apparent to the reasonable consumer.”

Need: These rules are intended to reduce “slamming” and other telecommunications fraud by setting standards for bills for telecommunications service. They are designed to ensure that consumers are provided with the basic information they need to understand their telecommunications bills. They are also intended to provide consumers with the tools they need to make informed choices in a competitive telecommunications marketplace.

Legal Basis: 47 U.S.C. 151, 154(i) and (j), 201-209, 254, 258 and 403.

Section Number and Title:

64.2401(e) Truth-in-Billing Requirements.

Subpart Z—Prohibition on Exclusive Telecommunications Contracts

Brief Description: Subpart Z is intended to further competition in local communications markets by ensuring that competing telecommunications providers are able to provide services to customers in multiple tenant environments (MTEs). Section 64.2500 prohibits carriers from entering into contracts that would in any way restrict the right of any commercial or residential multiunit premises owner to permit any other common carrier to access and serve commercial tenants on that premises.

Need: These rules reduce the likelihood that incumbent LECs can obstruct their competitors' access to MTEs, as well as address particular potentially anticompetitive actions by premises owners and other third parties.

Legal Basis: 47 U.S.C. 151, 152 and 202.

Section Number and Title:

64.2500 Prohibited agreements.

Brief Description: Subpart Z is intended to further competition in local communications markets by ensuring that competing telecommunications providers are able to provide services to customers in multiple tenant environments (MTEs). Section 64.2501 defines the terms “multiunit premises” and sets forth the distinction between commercial and residential multiunit premises for the purposes of this subpart.

Need: These rules reduce the likelihood that incumbent LECs can obstruct their competitors' access to MTEs, as well as address particular potentially anticompetitive actions by premises owners and other third parties.

Legal Basis: 47 U.S.C. 151, 152 and 202.

Section Number and Title:

64.2501 Scope of limitation.

Brief Description: Subpart Z is intended to further competition in local communications markets by ensuring that competing telecommunications providers are able to provide services to customers in multiple tenant environments (MTEs). Section 64.2502 clarifies that the rules in subpart Z do not preempt state regulations that require a governmental entity to enter into a contract with a carrier which would restrict the governmental entity's right to obtain telecommunications service from another carrier.

Need: These rules reduce the likelihood that incumbent LECs can obstruct their competitors' access to MTEs, as well as address particular potentially anticompetitive actions by premises owners and other third parties.

Legal Basis: 47 U.S.C. 151, 152, 202 and 218.

Section Number and Title:

64.2502 Effect of state law or regulation.

Subpart BB—Restrictions on Unwanted Mobile Service Commercial Messages

Brief Description: These rules implement the Controlling the Assault of Non-Solicited Pornography and Marketing Act of 2003, or the CAN-SPAM Act. The rules protect wireless subscribers from receiving unwanted commercial electronic mail messages. Specifically, the rules prohibit the transmission of commercial messages to any address referencing an Internet domain name associated with a wireless subscriber messaging service, unless the individual addressee has given the sender express prior authorization. To assist the senders of such messages in identifying wireless subscribers, the rules also require that Commercial Mobile Radio Service (CMRS) providers file with the Commission the names of all electronic domain names used for wireless service.

Need: These rules are consistent with the requirements of the CAN-SPAM Act. In promulgating these rules, the Commission determined that the establishment of a list of domain names was the most effective method to allow wireless subscribers to avoid unwanted electronic messages. The rules impose minimal burdens on CMRS providers, and provide a variety of ways to obtain authorizations from those wireless subscribers who want to receive messages from specific senders.

Legal Basis: 47 U.S.C. 151-154, 222, 227, and 303(r); and the Controlling the Assault of Non-Solicited Pornography and Marketing Act of 2003, Pub. L. 108-187, 117 Stat. 2699; 15 U.S.C. Sections 7701-7712.

Section Number and Title:

64.3100 Restrictions on mobile service commercial messages.

PART 68—CONNECTION OF TERMINAL EQUIPMENT TO THE TELEPHONE NETWORK

Subpart A—General

Brief Description: Part 68 sets forth rules concerning the connection of terminal equipment and associated premises wiring to the public telephone network. Subpart A identifies the purpose and scope of part 68 and defines key terms. Section 68.2, in particular, establishes that part 68 rules apply to the direct connection of all terminal equipment to the public switched telephone network for use in conjunction with all services other than party line services, but allows exemptions to part 68 rules in the interest of national defense and security, provided certain conditions are met. Section 68.7 requires that terminal equipment shall not cause harm, as defined in section 68.3, to the public switched telephone network. Section 68.7 also establishes that technical criteria published by the Administrative Council for Terminal Attachments (ACTA), a private industry organization, are presumptively valid for protecting the public switched telephone network from harms caused by the connection of terminal equipment, subject to the appeal procedures identified in part 68 subpart G.

Need: The rules in subpart A provide the foundation for uniform standards, set forth generally in part 68 and industry standards published by ACTA, to protect the public switched telephone network from harms caused by connection of terminal equipment and the associated wiring thereto. These standards enable terminal equipment and premises wiring to be provided competitively.

Legal Basis: 47 U.S.C. 151-154, 201-205 and 303(r).

Section Numbers and Titles:

68.2 Scope.

68.3 Definitions.

68.7 Technical criteria for terminal equipment.

Subpart B—Conditions on Use of Terminal Equipment

Brief Description: Section 68.100 establishes that terminal equipment may be directly connected to the public switched telephone network, including private line services that are provided over wireline facilities that are owned by providers of wireline telecommunications, in accordance with the rules and regulations in part 68. Section 68.102 sets forth a requirement for terminal equipment approval in accordance with regulations in part 68 subpart C; otherwise, terminal equipment must be connected through protective circuitry that is approved. Section 68.106 requires customers who connect terminal equipment or protective circuitry to the public switched telephone network to provide certain information to the wireline service provider, upon request; this is information ACTA requires to be placed on the equipment under section 68.354. Section 68.110 obligates wireline telecommunications service providers to make available, upon request, technical interface requirements that are not published by ACTA if compliance with these requirements is needed for terminal equipment to operate compatibly with the communications facilities of the service provider. Subpart B section 68.105 sets forth rules regarding the demarcation point, including a requirement for carrier-provided facilities at the demarcation point to consist of a wire or jack conforming to ACTA requirements. Section 68.105 also sets forth specific requirements for the location of demarcation point(s) in single and multiunit installations. In the case of multiunit installations where wiring is being installed, section 68.105 establishes the right of the premises owner to determine whether there will be a single demarcation point location for all customers, or separate locations for each customer. In the case of existing multi-unit installations where the demarcation point is not already at the minimum point of entry, section 68.105 requires the service provider to negotiate terms in good faith and complete negotiations for moving the demarcation point to the minimum point of entry within 45 days after receiving a request from the premises owner. Section 68.105 also requires wireline communications providers to make information available about the location(s) of demarcation points to premises owners and establishes the right of premises owners to file complaints with the Commission to resolve allegations of bad faith bargaining by the provider of wireline telecommunications.

Need: These rules establish uniform conditions under which terminal equipment may be directly connected to the public switched telephone network, regardless of the supplier of the terminal equipment, thus protecting the network from harms caused by connection of terminal equipment while enabling terminal equipment to be provided competitively. These rules also establish the rights and obligations of both customers who connect terminal equipment to the network and wireline service providers whose network may be harmed by attached terminal equipment. Similarly, the demarcation point requirements in this subpart enable premises (or “inside”) wiring to be provided and maintained competitively, while establishing the rights and obligations of both premises owners and wireline service providers.

Legal Basis: 47 U.S.C. 151-154, 201-205 and 303(r).

Section Numbers and Titles:

68.100 General.

68.102 Terminal equipment approval requirement.

68.105 Minimum point of entry (MPOE) and demarcation point.

68.106 Notification to provider of wireline telecommunications.

68.110 Compatibility of the public switched telephone network and terminal.

Subpart C—Terminal Equipment Approval Procedures

Brief Description: Section 68.201 designates two methods by which responsible parties may obtain approval (or “authorization”) for terminal equipment to connect to the public switched telephone network: (1) Obtaining certification from a Telecommunications Certification Body (TCB) and (2) following all the procedures set forth in part 68 subpart D for a Supplier's Declaration of Conformity. Section 68.211 permits the Commission to revoke the interconnection authorization of terminal equipment for causes identified in this section, regardless of the method (TCB certification or SDoC) that was used to obtain the authorization. Section 68.211 also establishes procedures for reauthorization of terminal equipment after its approval has been revoked, and for reconsideration or appeal in the case where authorization has been revoked or a forfeiture established. Section 68.218 establishes the responsibilities of parties that obtain terminal equipment approvals.

Need: These rules largely privatize the terminal equipment approval process, except for enforcement. By adopting two effective methods of terminal equipment approval, these rules allow suppliers to bring to market products incorporating new features and technology with reduced delays and lower costs, while still providing sufficient assurance that the terminal equipment complies with technical criteria for preventing harms to the public switched telephone network.

Legal Basis: 47 U.S.C. 151-154, 201-205 and 303(r)

Section Numbers and Titles:

68.201 Connection to the public switched telephone network.

68.211 Terminal equipment approval revocation procedures.

68.218 Responsibility of the party acquiring equipment authorization.

Subpart D—Conditions for Terminal Equipment Approval

Brief Description: These rule sections generally define and establish the process under which responsible parties, as defined in subpart A, section 68.3, acquire terminal equipment approval using a supplier's declaration of conformity (SDoC); and set forth the obligations of responsible parties for SDoCs.

Need: Labeling of terminal equipment enables consumers and others to recognize compliant equipment, which promotes its use, and to identify the responsible party when necessary, which assists in the Commission's enforcement of part 68 rules.

Legal Basis: 47 U.S.C. 151-154, 201-205 and 303(r).

Section Numbers and Title:

68.300 Labeling requirements.

Brief Description: These rules require any fax broadcaster that uses a computer or other electronic device to send any message via a telephone facsimile machine and demonstrates a high degree of involvement in the transmission of such facsimile message to be identified on the facsimile, along with the identification of the sender and the telephone number of the sending machine or of the business, other entity or individual. Under these rules, senders of fax advertisements are required to use the name under which they are officially registered to conduct business.

Need: These rules are consistent with the requirements of the Telephone Consumer Protection Act (TCPA), and permit consumers to hold fax broadcasters accountable for unlawful fax advertisements when there is a high degree of involvement on the part of the fax broadcaster.

Legal Basis: 47 U.S.C. Sections 151-154, 227, and 303(r).

Section Number and Title:

68.318(d) Additional limitations.

Brief Description: These rule sections generally define and establish the process under which responsible parties, as defined in subpart A, section 68.3, acquire terminal equipment approval using a supplier's declaration of conformity (SDoC); and set forth the obligations of responsible parties for SDoCs. Among these are obligations to ensure compliance of terminal equipment, which are subject to an SDoC, with appropriate standards; to make no changes to terminal equipment that would materially change the information provided on the SDoC; to retain certain records of terminal equipment compliance testing; to compile and retain a description of the testing facilities; and to file the SDoC and other required information with Administrative Council for Terminal Attachments (ACTA). These rules specify that in those cases where the responsible party licenses a second party to manufacture terminal equipment that is subject to an SDoC, the responsible party remains responsible for terminal equipment compliance; however, in the event of a change in ownership or control of the responsible party, the successor entity becomes the responsible party. These rules also set forth conditions, in addition to those specified in subpart C, under which the Commission may revoke an SDoC. Subpart D also establishes rules concerning the numbering and labeling of terminal equipment, and in particular, requires numbering and labeling of all approved terminal equipment in accordance with labeling requirements developed and published by ACTA.

Need: These rules permit suppliers to select SDoC as an alternative to Telecommunication Certification Body (TCB) certification of terminal equipment. The SDoC procedure reduces the complexity, cost and delays associated with premarket approval for some suppliers, while still providing sufficient assurance that the terminal equipment complies with technical criteria for preventing harms to the public switched telephone network.

Legal Basis: 47 U.S.C. 151-154, 201-205 and 303(r).

Section Numbers and Titles:

68.320 Supplier's Declaration of Conformity.

68.322 Changes in name, address, ownership or control of responsible party.

68.324 Supplier's Declaration of Conformity requirements.

68.326 Retention of records.

68.346 Description of testing facilities.

68.348 Changes in equipment and circuitry subject to a Supplier's Declaration of Conformity.

68.350 Revocation of Supplier's Declaration of Conformity.

68.354 Numbering and labeling requirements for terminal equipment.

Subpart G—Administrative Council for Terminal Attachments

Brief Description: These rule sections establish the Administrative Council for Terminal Attachments (ACTA) under the joint sponsorship of the Telecommunications Industry Association (TIA) and the Alliance for Telecommunications Industry Solutions (ATIS) with responsibilities to (1) administer the industry review and publication of technical criteria for protecting the public switched telephone network from harms caused by terminal equipment; (2) maintain and operate a publicly available database of all approved terminal equipment; and (3) establish labeling requirements for approved terminal equipment. These rule sections also authorize ANSI- accredited standards development organizations (SDOs) to develop and maintain terminal equipment technical criteria, and to submit them to ACTA for publication, provided they use an open process, similar to a Commission rulemaking proceeding. Technical criteria submitted to ACTA for review must be limited to protecting the public switched telephone network from harms, as described in section 68.3, and must not conflict with terminal equipment technical criteria that are already published or under review. These rules permit several methods of opposing proposed terminal equipment technical criteria, including direct appeal to the Commission for de novo review.

Need: These rules largely privatize the development of terminal equipment technical criteria, except for certain appeals. Industry, rather than Commission, development of technical criteria decreases the time to availability of published criteria and allows suppliers to bring innovative and compliant consumer products, especially for the provision of advanced services, to the market on an expedited basis. The availability of a uniform, nationwide database of approved terminal equipment permits the Commission, providers of telecommunications and consumers to identify responsible parties for terminal equipment and to verify compliance of terminal equipment against the database.

Legal Basis: 47 U.S.C. 151-154, 201-205 and 303(r).

Section Numbers and Titles:

68.602 Sponsor of the Administrative Council for Terminal Attachments.

68.604 Requirements for submitting technical criteria.

68.608 Publication of technical criteria.

68.610 Database of terminal equipment.

68.612 Labels on terminal equipment.

68.614 Oppositions and appeals.

PART 69—ACCESS CHARGES

Subpart A—General

Brief Description: The part 69 rules are designed to implement the provisions of sections 201, 202, and 203 of the Communications Act of 1934, as amended, and protect consumers by preventing the exercise of market power by incumbent local exchange carriers. These rules help ensure that rates are just, reasonable, and not unjustly or unreasonably discriminatory. Section 69.2 sets out definitions for terms used in this part. Specifically, section 69.2(ww) defines “Interstate common line support” (ICLS) as the “funds that are provided pursuant to section 54.901 of this chapter.”

Need: Section 69.2(ww) was adopted to define ICLS for purposes of the rules regarding the calculation of access charges.

Legal Basis: 47 U.S.C. 151, 154(i), 154(j), 201-203, 205, 218, 220, 254 and 403.

Section Number and Titles:

69.2(ww) Definitions.

Brief Description: The part 69 rules are designed to implement the provisions of sections 201, 202, and 203 of the Communications Act of 1934, as amended, and protect consumers by preventing the exercise of market power by incumbent local exchange carriers (LECs). These rules help ensure that rates are just, reasonable and not unjustly or unreasonably discriminatory. Section 69.4 sets forth the charges to be included in the carrier's tariffs for access services that are filed by incumbent LECs. In particular, section 69.4(b) provides that, with some exceptions, those charges must include charges for enumerated rate elements. Section 69.4(b)(2) specifies that one of these rate elements is “Carrier common line, provided that after June 30, 2003, non-price cap local exchange carriers may not assess a carrier common line charge.” Section 69.4(d) provides for the recovery of contributions to the universal service support mechanisms. Section 69.4(g) specifies that local exchange carriers may establish appropriate rate elements for a new service. Section 69.4(j) provides that a non-price cap LEC may include charges for enumerated rate elements in its charges for access service filed with the Commission.

Need: Section 69.4 lists charges for access services that are to be included in tariffs filed by incumbent LECs necessary to foster competition, move access charges over time to economically efficient levels and rate structures, preserve universal service, and lower rates.

Legal Basis: 47 U.S.C. 151, 154(i), 154(j), 201-203, 205, 218, 220, 254 and 403.

Section Number and Titles:

69.4 (b)(2), (d), (g), (j) Charges to be filed.

Subpart B—Computation of Charges

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.104(a), (c)-(f), and (n)-(r) provide for the computation of end user common line charges by non-price cap incumbent LECs.

Need: Section 69.104(a), (c)-(f), and (n)-(r) were adopted to provide the methodology for the computation of end user common line charges by non-price cap incumbent LECs under the Commission's access charge regime.

Legal Basis: 47 U.S.C. 154, 201-203, 205, 218, 220, 254 and 403.

Section Number and Titles:

69.104(a), (c) through (f), (n) through (r) End user common line for non-price cap incumbent local exchange carriers.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.105(a) and (d) provide for the computation of carrier common line charges by non-price cap incumbent LECs through June 30, 2003, when they were eliminated.

Need: Section 69.105(a) and (d) were adopted to provide the methodology until June 30, 2003 for the computation of carrier common line charges by non-price cap incumbent LECs under the Commission's access charge regime.

Legal Basis: 47 U.S.C. 154, 201-203, 205, 218, 220, 254 and 403.

Section Number and Titles:

69.105(a), (d) Carrier common line for non-price cap local exchange carriers.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.106 sets forth requirements that non-price cap LECs must follow in setting their per-minute access charges for local switching. In particular, subsection 106(g) provides that a LEC may recover signaling costs associated with call setup through a per-minute charge imposed on all interexchange carriers. Section 69.106(h) specifies rate elements that non-price cap LECs may establish, with certain exceptions.

Need: Section 69.106(g) and (h) were adopted to permit incumbent LECs to assess a call setup charge and allow non-price cap incumbent LECs to establish trunk port charges at the local switch, respectively.

Legal Basis: 47 U.S.C. 151, 154(i), 154(j), 201-203, 205, 218, 220, 254 and 403.

Section Number and Titles:

69.106(g) through (h) Local switching.

Brief Description: The part 69 rules are designed to implement the provisions of sections 201, 202, and 203 of the Communications Act of 1934, as amended, and protect consumers by preventing the exercise of market power by incumbent local exchange carriers (LECs). These rules help ensure that rates are just, reasonable and not unjustly or unreasonably discriminatory. Section 69.111 sets forth provisions governing tandem-switched transport and tandem charges. In particular, section 69.111(m) specifies the means by which non-price cap LECs may establish separate charges for multiplexers and dedicated trunk ports used in conjunction with the tandem switch.

Need: Section 69.111(m) permits non-price cap LECs to establish separate multiplexing and port charges at the tandem switch to facilitate cost-based recovery.

Legal Basis: 47 U.S.C. 151, 154(i), 154(j), 201-203, 205, 218, 220, 254 and 403.

Section Number and Titles:

69.111(m) Tandem-switched transport and tandem charge.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.124 provides for the computation of interconnection charges by non-price cap incumbent LECs.

Need: Section 69.124(a) was adopted to provide the methodology until December 31, 2001 for the computation of interconnection charges by non-price cap incumbent LECs under the Commission's access charge regime.

Legal Basis: 47 U.S.C. 154, 201-203, 205, 218, 220, 254 and 403.

Section Number and Titles:

69.124(a) Interconnection charge.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.130 allows non-price cap incumbent LECs to recover those line port costs for a service that exceeds the costs of a line port used for basic, analog service through a separate monthly end user charge.

Need: Section 69.130 was adopted to provide for the recovery of certain line port costs by non-price cap incumbent LECs of certain higher line port costs from services benefiting from the higher line port costs.

Legal Basis: 47 U.S.C. 154, 201-203, 205, 218, 220, 254 and 403.

Section Number and Title:

69.130 Line port costs in excess of basic analog service.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.131 provides the means by which non-price cap LECs may recover universal service contribution costs from customers.

Need: Section 69.131 was adopted to promote the Commission's universal service goals by providing a non-price cap LEC a means to recover its universal service contribution from end user customers other than Lifeline customers.

Legal Basis: 47 U.S.C. 151, 154(i), 154(j), 201-203, 205, 218, 220, 254 and 403.

Section Number and Title:

69.131 Universal service end user charges.

Subpart C—Computation of Charges for Price Cap Local Exchange Carriers

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.153(f) provides that payphone lines are not subject to the Presubscribed Interexchange Carrier Charge (PICC).

Need: The elimination of the PICC for payphone lines in section 69.153(f) was adopted to comply with the anti-subsidization and anti-discrimination provisions of section 276 of the Act, specifically the determination that payphone line rates should be set according to the cost-based new services test.

Legal Basis: 47 U.S.C. 154, 201-203, 205, 218, 220, 254, and 403.

Section Number and Title:

69.153(f) Presubscribed interexchange carrier charge (PICC).

Subpart D—Apportionment of Net Investment

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.302(a) provides the methods to be used for purposes of apportioning investment in telecommunications plant in service, inventories, and telephone bank stock among the various access categories.

Need: Section 69.302(a) was adopted as a result of the Commission's efforts to reduce regulatory burdens on incumbent LECs.

Legal Basis: 47 U.S.C. 154, 201-203, 205, 218, 220, 254, and 403.

Section Number and Title:

69.302(a) Net investment.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.306 provides the methods to be used for purposes of apportioning investment in central office equipment (COE) among the various access categories. Section 69.306(d) was revised to reallocate line port costs to the common line category.

Need: Section 69.306(d) was adopted to implement the decision that non-price cap LECs should recover line port costs through common line charges.

Legal Basis: 47 U.S.C. 151, 154(i), 154(j), 201-203, 205, 218, 220, 254 and 403.

Section Number and Title:

69.306(d) Central office equipment (COE).

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.307(c) and (e) apportion general purpose computer investment and other general support facilities investments of non-price cap LECs among various access categories to establish rates.

Need: These rules were adopted to help ensure that rates are just and reasonable by preventing cross-subsidization of a non-price cap LEC's non-regulated services by its regulated services, thereby creating a more economically rational, cost-based access rate structure.

Legal Basis: 47 U.S.C. 154, 201-203, 205, 218, 220, 254 and 403.

Section Number and Title:

69.307(c), (e) General support facilities.

Subpart E—Apportionment of Expenses

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.415 reallocates costs of non-price cap LECs that had been recovered through the transport interconnection charge to other access charge rate elements.

Need: Section 69.415 was adopted as part of access rate structure reforms for rate-of-return LECs to promote competition under the 1996 Act and helps ensure that rates are just and reasonable. By eliminating the transport interconnection charge as a separate rate element, the rule was designed to make the access rate structure more economically rational for rate-of-return carriers and drive their traffic sensitive rates toward lower, more cost-based levels.

Legal Basis: 47 U.S.C. 154, 201-203, 205, 218, 220, 254 and 403.

Section Number and Title:

69.415 Reallocation of certain transport expenses.

Subpart F—Segregation of Common Line Element Revenue Requirement

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.501 sets forth general rules for isolating the Common Line element revenue requirement. This section was revised to conform the rule to revisions to other rules as part of revising the access rates and rate structure for non-price cap LECs.

Need: Section 69.501 was adopted to conform the rule to other revisions to part 69.

Legal Basis: 47 U.S.C. 151, 154(i), 154(j), 201-203, 205, 218, 220, 254 and 403.

Section Number and Title:

69.501(b); (c); (e); (f) General.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.502 delineates how carriers should deduct projected revenues from a number of sources from the base factor portion to determine the amount that is assigned to the Carrier Common Line rate element. These revisions were made to conform the rule to other revisions to part 69 as part of reforming access charges for non-price cap LECs.

Need: Sections 69.502(d) and (e) were added to conform the rule to other revisions to part 69.

Legal Basis: 47 U.S.C. 151, 154(i), 154(j), 201-203, 205, 218, 220, 254 and 403.

Section Number and Title:

69.502(d); (e) Base factor allocation.

Subpart G—Exchange Carrier Association

Brief Description: The part 69 rules are designed to implement the provisions of sections 201, 202, and 203 of the Communications Act of 1934, as amended, and protect consumers by preventing the exercise of market power by incumbent local exchange carriers. These rules help ensure that rates are just, reasonable, and not unjustly or unreasonably discriminatory. Subpart G provides for the establishment and operation of the National Exchange Carrier Association (NECA), which files tariffs on behalf of all telephone companies that do not file separate tariffs or concur in a joint access tariff of another telephone company. Section 69.603(g) and (h)(5) were revised to include interstate common line support in the methodology by which NECA allocates its expenses among its functions and how it recovers those expenses.

Need: Section 69.603(g) and (h)(5) were added to include interstate common line support amounts in the processes for allocating and recovering NECA expenses from its various functions.

Legal Basis: 47 U.S.C. 154, 201-203, 205, 218 and 403.

Section Number and Title:

69.603(g), (h)(5) Association functions.

Brief Description: The part 69 rules are designed to implement the provisions of sections 201, 202, and 203 of the Communications Act of 1934, as amended, and protect consumers by preventing the exercise of market power by incumbent local exchange carriers (LECs). These rules help ensure that rates are just, reasonable, and not unjustly or unreasonably discriminatory. Section 69.609(b) was revised to ensure that the formula process for determining hypothetical net balances that are used in distributing pool common line revenues reflected any forgone revenues as a result of a carrier electing to voluntarily reduce its subscriber line charge.

Need: Section 69.609(b) was revised to prevent a LEC from gaming the pooling process by taking a voluntary reduction in its subscriber line charges.

Legal Basis: 47 U.S.C. 151, 154(i), 154(j), 201-203, 205, 218, 220, 254 and 403.

Section Number and Title:

69.609(b) End User Common Line hypothetical net balances.

PART 73—RADIO BROADCAST SERVICES

Subpart A—AM Broadcast Stations

Brief Description: This rule allows AM licensees to file Forms 301-AM and 302-AM if a partial proof of performance test indicates that radiation exceeds the standard pattern.

Need: This rule is required to limit interference between AM broadcast stations.

Legal Basis: 47 U.S.C. 154, 303, 334, 336 and 339.

Section Number and Title:

73.152(b) Modification of directional antenna data.

Subpart E—Television Broadcast Stations

Brief Description: This rule specifies that applications to construct broadcast TV stations must be for channels and communities designated in the Table of Allotments, and applications for channels or communities not listed in the Table of Allotments can be filed if consistent with the rules and policies established in the Third Report and Order in WT Docket 99-168 (FCC 01-25).

Need: This rule is necessary to inform applicants of the requirements for filing an application to construct a broadcast TV station.

Legal Basis: 47 U.S.C. 154, 303, 334, and 336.

Section Number and Title:

73.607(b) Availability of channels.

Brief Description: This rule requires that noncommercial educational television station licensees primarily provide a nonprofit, noncommercial educational service over their entire digital bit stream, including ancillary or supplementary services.

Need: The rule is needed to clarify applicability of the requirement that public television stations furnish primarily an educational, as well as a nonprofit and noncommercial broadcast service to the digital environment.

Legal Basis: 47 U.S.C. 154, 303, 334, 336 and 399.

Section Number and Title:

73.621(i) Noncommercial educational TV stations.

Brief Description: This rule specifies that applications to construct DTV broadcast stations must be for channels and communities designated in the DTV Table of Allotments, and applications for channels or communities not listed in the DTV Table of Allotments can be filed if consistent with the rules and policies established in the Third Report and Order in WT Docket 99-168 (FCC 01-25).

Need: This rule is necessary to inform applicants of the requirements for filing an application to construct a DTV broadcast station.

Legal Basis: 47 U.S.C. 154, 303, 334, 336, and 339.

Section Number and Title:

73.622(c)(2) Digital television table of allotments.

Brief Description: This rule sets forth DTV application processing procedures.

Need: This rule is necessary to establish a fair, certain, and orderly processes for resolving conflicts with respect to mutually exclusive DTV applications.

Legal Basis: 47 U.S.C. 154, 303, 334, 336 and 339.

Section Number and Title:

73.623(h) DTV applications and changes to DTV allotments.

Subpart G—Low Power FM Broadcast Stations (LPFM)

Brief Description: This rule defines the scope of permissible amendments to pending LPFM station applications.

Need: This rule is necessary to provide applicants for LPFM stations some flexibility to make technical changes to their new and major change applications after the close of a filing window.

Legal Basis: 47 U.S.C. 154, 303, 334, 336 and 339.

Section Number and Title:

73.871 Amendment of LPFM broadcast station applications.

Subpart H—Rules Applicable to All Broadcast Stations

Brief Description: This rule cross-references subpart W to part 1 of the Commission's rules, 47 CFR part 1, which requires persons and entities doing business with the Commission to acquire an FRN and to provide it on all applications or feeable filings as well as other transactions involving the payment of money.

Need: This rule is required to facilitate compliance with the Debt Collection Improvement Act of 1996 and to enable the Commission to manage its collection and revenue systems.

Legal Basis: 47 U.S.C. 154, 303, 334, 336 and 339.

Section Number and Title:

73.1010(a)(9) Cross reference to rules in other parts.

Brief Description: This rule requires applicants, permittees or licensees to provide truthful written statements to the Commission regarding matters within the jurisdiction of the Commission.

Need: This rule ensures that the entities the Commission regulates provide truthful information.

Legal Basis: 47 U.S.C. 154, 303, 334, 336 and 339.

Section Number and Title:

73.1015 Truthful written statements and responses to Commission inquiries and correspondence.

Brief Description: This rule requires licensees or permittees of commercially or non-commercially operated AM, FM, TV, Class A TV or international broadcast stations to comply with rules regarding equal employment opportunity.

Need: This rule is needed because it ensures television broadcast station licensees and permittees' compliance with equal employment opportunity rules.

Legal Basis: 47 U.S.C. 154, 303, 334, 336 and 339.

Section Number and Title:

73.2080 Equal employment opportunities (EEO).

Subpart J—Class A Television Broadcast Stations

Brief Description: These rules establish requirements delineating how Digital Class A TV stations must protect other authorized broadcast TV services.

Need: These rules are necessary to provide interference protection to other TV facilities and to commence the digital television conversion process for Class A stations.

Legal Basis: 47 U.S.C. 154, 303, 334, 336 and 339.

Section Number and Titles:

73.6016 Digital Class A TV station protection of TV broadcast stations.

73.6017 Digital Class A TV station protection of Class A TV and digital Class A TV stations.

73.6018 Digital Class A TV station protection of DTV stations.

73.6027 Class A TV notifications concerning interference to radio astronomy, research and receiving installations.

Subpart K—Application and Selection Procedures for Reserved Noncommercial Educational Channels, and for Certain Applications for Noncommercial Educational Stations on Non-Reserved Channels

Brief Description: This rule sets forth a point system to select among mutually exclusive proposals to build FM, TV, and FM translator stations on channels reserved for noncommercial educational use.

Need: This rule is needed to provide selection procedures for choosing among competing applications to build noncommercial educational broadcast stations.

Legal Basis: 47 U.S.C. 154, 303, 334, 336 and 339.

Section Number and Title:

73.7003(e) through (f) Point system selection procedures.

PART 74—EXPERIMENTAL RADIO, AUXILIARY, SPECIAL BROADCAST AND OTHER PROGRAM DISTRIBUTIONAL SERVICES

Subpart—General; Rules Applicable to All Services in Part 74

Brief Description: This rule cross-references subpart W to part 1 of the Commission's rules, 47 CFR part 1, which requires persons and entities doing business with the Commission to acquire an FRN and to provide it with all applications or feeable filings as well as other transactions involving the payment of money.

Need: This rule is required to facilitate compliance with the Debt Collection Improvement Act of 1996 and to enable the Commission to manage its collection and revenue systems.

Legal Basis: 47 U.S.C. 154, 302a, 303, 307, 309, 336 and 554.

Section Number and Title:

74.5(a)(8) Cross reference to rules in other parts.

Subpart G—Low Power TV, TV Translator, and TV Booster Stations

Brief Description: This rule subjects low power television stations participating in the digital data service pilot project to the provisions of the Commission Order implementing the LPTV Pilot Project Digital Data Services Act.

Need: This rule is necessary to provide the general requirements for the pilot program required under the LPTV Pilot Project Digital Data Services Act.

Legal Basis: 47 U.S.C. 154, 302a, 303, 307, 336 and 554.

Section Number and Title:

74.785 Low power TV digital data service pilot project.

PART 76—MULTICHANNEL VIDEO AND CABLE TELEVISION SERVICE

Subpart D—Carriage of Television Broadcast Signals

Brief Description: This rule specifies the cable system channel positioning requirements for television signals carried in fulfillment of must-carry obligations.

Need: This rule is necessary to spell out where television signals carried pursuant to the mandatory carriage provision are entitled to be carried on a cable system.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572 and 573.

Section Number and Title:

76.57 (c) Channel positioning.

Brief Description: This rule specifies the content of television signals that is subject to the mandatory carriage obligations.

Need: This rule is necessary to make clear which material in a television signal is entitled to must-carry rights.

Legal Basis: 47 U.S.C. 151, 152, 153, 154, 301, 302, 302a, 303, 303a, 307, 308, 309, 312, 315, 317, 325, 336, 338, 339, 340, 341, 503, 521, 522, 531, 532, 534, 535, 536, 537, 543, 544, 544a, 545, 548, 549, 552, 554, 556, 558, 560, 561, 571, 572 and 573.

Section Number and Title:

76.62 (g) Manner of carriage.

Brief Description: This rule specifies the signal carriage obligations of satellite carriers carrying local television signals, and the relevant carriage procedures.

Need: This rule is necessary to implement to provisions of section 338 of the Communications Act, which requires satellite carriers to carry local television broadcast stations' signals if specified circumstances are met.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572 and 573.

Section Number and Title:

76.66 Satellite broadcast signal carriage.

Subpart K—Technical Standards

Brief Description: These rules cover operations of cable television services and multichannel video service.

Need: These rules are required to establish the technical standards needed for these services to successfully operate in specific frequency bands, without causing interference.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, and 573.

Section Numbers and Titles:

76.610 Operation in the frequency bands 108-137 and 225-400 MHz—scope of application.

76.616 Operation near certain aeronautical and marine emergency radio frequencies.

76.640 Support for unidirectional digital cable products on digital cable systems.

Subpart N—Cable Rate Regulation

Brief Description: This rule adds headend equipment costs required to carry digital broadcast signals to the definition of “external cost” as used to calculate permitted charges for tiers of cable service subject to rate regulation.

Need: This rule is necessary to resolve the consequences for the cable television rate regulation process of the carriage of digital broadcast signals.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572 and 573.

Section Number and Title:

76.922(f)(1)(vii) Rates for the basic service tier and cable programming service tiers.

Subpart S—Open Video Systems

Brief Description: This rule applies Equal Employment Opportunity requirements, ownership restrictions, negative option billing, regulation of carriage agreements, signal leakage restrictions, and signal leakage monitoring and aeronautical frequency notifications to open video systems.

Need: This rule is needed because it ensures employer compliance with the above-mentioned rules.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572 and 573.

Section Number and Title:

76.1510 Application of certain Title VI provisions.

Subpart T—Notices

Brief Description: This rule cross-references subpart W to part 1 of the Commission's rules, 47 CFR part 1, which requires persons and entities doing business with the Commission to acquire an FRN and to provide it with all applications or feeable filings as well as other transactions involving the payment of money.

Need: This rule is required to facilitate compliance with the Debt Collection Improvement Act of 1996 and to enable the Commission to manage its collection and revenue systems.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572 and 573.

Section Number and Title:

76.1610(f) Change of operational information.

Subpart U—Documents To Be Maintained for Inspection

Brief Description: This rule requires employers with six or more full-time employees to maintain an Equal Employment Opportunity (EEO) program file for public inspection with all annual reports filed with the Commission.

Need: This rule is needed because it ensures employer compliance with equal employment opportunity rules.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 560, 561, 571, 572 and 573.

Section Number and Title:

76.1702 Equal employment opportunity.

Subpart V—Reports and Filings

Brief Description: These rules allow for electronic filing of forms by Multichannel Video Programming Distributors (MVPDS) via the Cable Operations and Licensing System (COALS).

Need: These rules are needed to reduce the effort for MVPDs to file applications, reports, and other documents.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, and 573.

Section Number and Titles:

76.1801 Registration statement.

76.1802 Annual employment report.

76.1803 Signal leakage monitoring.

76.1804 Aeronautical frequencies: Leakage monitoring (CLI).

PART 78—CABLE TELEVISION RELAY SERVICE

Subpart A—General

Brief Description: This rule sets forth the purpose of the licensing and operation of fixed or mobile cable television relay service stations.

Need: This rule is needed to assist the Commission in furthering its goal of providing all Americans with access to ubiquitous wireless broadband connections, regardless of their location.

Legal Basis: 47 U.S.C. 152, 153, 154, 301, 303, 307, 308, 309.

Section Number and Title:

78.1 Purpose.

Subpart B—Applications and Licenses

Brief Description: These rules apply to the application processes for Cable Television Relay Services (CARS) that Commission-regulated entities may take to amend, terminate their station authorizations or coordinate their frequency assignments in certain bands.

Need: These rules ensure that Cable Television Relay Services are properly authorized with the Commission.

Legal Basis: 47 U.S.C. 152, 153, 154, 301, 303, 307, 308, 309.

Section Numbers and Titles:

78.17 Amendment of applications.

78.30 Forfeiture and termination of station authorizations.

78.36 Frequency coordination.

Subpart D—Technical Regulations

Brief Description: These rules were amended permit Broadcast Auxiliary Services (BAS) stations to introduce new technologies and create a more efficient BAS that can more readily adapt as the broadcast industry converts to the use of digital technology, such as digital television (DTV).

Need: These rules are needed to permit CARS to operate with BAS and Fixed Services under consistent regulatory guidelines. These services share frequency bands and have technically and operationally similar stations.

Legal Basis: 47 U.S.C. 152, 153, 154, 301, 303, 307, 308, 309.

Section Number and Titles:

78.106 Interference to geostationary satellites.

78.109 Major and minor modifications to stations.

PART 79—ACCESSIBILITY OF VIDEO PROGRAMMING

Brief Description: In 1996, Congress added section 713 to the Communications Act of 1934, as amended (the Act), requiring the Commission to adopt rules and implementation schedules for the closed captioning of video programming. The Commission's closed captioning rules require video programming distributors to increase gradually the amount of captioned programming offered over a period of years, subject to certain exceptions. The rules allow video programming distributors to exercise discretion with respect to what types of closed captioned programming to provide first. A video programming distributor could use this discretion during the implementation period and choose to not close caption programming providing emergency information. To ensure the accessibility of emergency information on television, in 2000 the Commission established rules requiring that the critical details of emergency information be made accessible to persons with hearing disabilities through closed captioning or by a method of visual presentation. The Commission's rules also require that the critical details of emergency information on television be made accessible to persons with visual disabilities. Section 713 of the Act also instructed the Commission to examine the use of video descriptions on video programming and to report to Congress its findings, including an assessment of appropriate methods and phase-in schedules and a definition of programming for which video descriptions would apply. In 2000, the Commission adopted video description rules. The United States Court of Appeals for the District of Columbia Circuit subsequently vacated these video description rules, stating that section 713 did not authorize the Commission to adopt regulations implementing video descriptions. The Twenty-First Century Communications and Video Accessibility Act of 2010, however, requires the Commission to reinstate its video description regulations, with some modifications.

Need: Emergency information is information about a current emergency that is intended to further the protection of life, health, safety, and property, i.e., critical details regarding the emergency and how to respond to the emergency. Significant health and safety issues are inherent in emergency information making it necessary to make this information accessible to all persons. Video description is the description of key visual elements in programming inserted into natural pauses in the audio of the programming. It is designed to make television programming more accessible to the many Americans who have visual disabilities.

Legal Basis: 47 U.S.C. 151, 152(a), 154(i), 303, 307, 309, 310 and 613.

Section Number and Title:

79.2 Accessibility of programming providing emergency information.

Brief Description: In 1996, Congress added section 713 to the Communications Act of 1934, as amended (the Act), which, among other things, instructed the Commission to examine the use of video descriptions in order to enhance the accessibility of video programming to people with visual disabilities. Section 713 also required the Commission to report to Congress its findings, including an assessment of appropriate methods and phase-in schedules and a definition of programming for which video descriptions would apply. In 2000, the Commission adopted video description rules. The United States Court of Appeals for the District of Columbia Circuit subsequently vacated these video description rules, stating that section 713 did not authorize the Commission to adopt regulations implementing video descriptions. The Twenty-First Century Communications and Video Accessibility Act of 2010, however, required the Commission to reinstate its video description regulations, with some modifications. In August 2011, the Commission adopted an order doing so. Among the video description regulations reinstated in this action were two added in 2001, section 79.3(c)(4) (establishing standards for compliance with video description requirements) and (e)(1)(vi) (requiring that a complainant of a video description rules violation first attempt to resolve the dispute with the video programming distributor against whom the complaint is alleged).

Need: Video description is the description of key visual elements in programming inserted into natural pauses in the audio of the programming. It is designed to make television programming more accessible to the many Americans who have visual disabilities.

Legal Basis: 47 U.S.C. 151, 152(a), 154(i), 303, 307, 309, 310 and 613.

Section Number and Title:

79.3 Video description of video programming.

PART 80—STATIONS IN THE MARITIME SERVICES

Subpart D—Operator Requirements

Brief Description: The part 80 rules set forth the conditions under which radio may be licensed and used in the maritime services. Subpart D rules prescribe coast station operator requirements, ship station operator requirements, minimum operator license requirements, and general operator requirements.

Need: Consistent with ITU regulations permitting a restricted operator's certificate for GMDSS operators on ships sailing exclusively within Sea Area A1, section 80.159(d) requires that a passenger ship equipped with a GMDSS installation and operating exclusively within twenty nautical miles of shore carries at least two persons holding either a GMDSS Radio Operator License or a Restricted GMDSS Radio Operator License.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.159(d) Operator requirements of Title III of the Communications Act and the Safety Convention.

Subpart E—General Technical Standards

Brief Description: The part 80 rules set forth the conditions under which radio may be licensed and used in the maritime services. Subpart E rules prescribe the general technical requirements for the use of frequencies and equipment in the maritime services.

Need: As proposed by the Coast Guard, section 80.203(m)(6) prohibits ship stations from including any device capable of transmitting on a distress frequency without regulatory authorization.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.203(m)(6) Authorization of transmitters for licensing.

Subpart F—Equipment Authorization for Compulsory Ships

Brief Description: The part 80 rules set forth the conditions under which radio may be licensed and used in the maritime services. Subpart F rules prescribe the general technical requirements for certification of equipment used on compulsory ships.

Need: As requested by the Coast Guard, section 80.275 governs the implementation of Automatic Identification Systems (“AIS”) and specifies what information must be submitted to the Coast Guard and the Commission prior to submitting a certification application for a Class A AIS device.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.275 Technical Requirements for Class A Automatic Identification System (AIS) equipment.

Subpart J—Public Coast Stations

Brief Description: The part 80 rules set forth the conditions under which radio may be licensed and used in the maritime services. Section 80.475 (a)(1)-(2) requires licensees seeking to locate public coast stations within a specified distance of channel 13 and channel 10 TV stations to submit an engineering study to the Commission and the TV stations clearly showing the means of avoiding interference with television reception.

Need: These requirements ensure interference with television reception is prevented.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.475(a)(1)-(2) Scope of service of the Automated Maritime Telecommunications System (AMTS).

Subpart R—Technical Equipment Requirements for Cargo Vessels Not Subject to Subpart W

Brief Description: The part 80 rules set forth the conditions under which radio may be licensed and used in the maritime services. Subpart R rules provide the radiotelephone requirements for cargo ships of 300 to 1600 gross tons. Sections 80.880 and 80.881 specify equipment requirements for ship stations between 300 to 1600 gross tons operating within 20 and 100 nautical miles of shore.

Need: These equipment requirements are needed to ensure that the Commission's ship radar rules are fully compatible with internationally-agreed performance and certification testing standards required to meet international shipboard carriage requirements.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Numbers and Titles:

80.880 Vessel radio equipment.

80.881 Equipment requirements for ship stations.

Subpart W—Global Maritime Distress and Safety System (GMDSS)

Brief Description: The part 80 rules set forth the conditions under which radio may be licensed and used in the maritime services. Subpart W rules apply to all passenger ships regardless of size and cargo ships of 300 tons gross tonnage and upwards, mostly fishing vessels, with some exceptions.

Need: The rules in this subpart require that all compulsory vessels, including fishing vessels of 300 gross tons or more, must comply with all the GMDSS requirements appropriate to their area of operation. A separate safety system for fishing vessels would be expensive, difficult to administer, and would cause confusion during a distress incident.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Numbers and Titles:

80.1071(c) Exemptions.

80.1083(d)-(g) Ship radio installations.

80.1085(a)(6)(iii), (c), (d) Ship radio equipment-General.

80.1101(c)(11)-(12) Performance standards.

80.1105(k) Maintenance requirements.

PART 87—AVIATION SERVICES

Subpart D—Technical Requirements

Brief Description: The part 87 rules set forth the conditions under which radio stations may be licensed and used in the aviation services. Subpart R rules provide the technical requirements for such radio stations.

Need: The technical requirements are needed to protect the safety of life and property in air navigation and must be periodically updated to reflect technological advancements in the aviation industry and maximize spectral efficiency while maintaining important safeguards against interference.

Legal Basis: 47 U.S.C. 154, 303 and 307(e), unless otherwise noted.

Section Numbers and Titles:

87.147(f) Authorization of equipment.

87.151 Special requirements for differential GPS receivers.

Subpart F—Aircraft Stations

Brief Description: Part 87 contains the Commission rules governing aviation services. Subpart F sets forth the rules governing assignment of frequencies in those services.

Need: This rule is needed as it designates certain frequencies for flight information services-broadcast (FIS-B) that may not be used by aircraft for transmission.

Legal Basis: 47 U.S.C. 154, 303 and 307(e).

Section Number and Title:

87.187(dd) Frequencies.

Subpart G—Aeronautical Advisory Stations (UNICOMS)

Brief Description: The part 87 rules set forth the conditions under which radio stations may be licensed and used in the aviation services. Subpart G rules provide the eligibility, frequencies, and automatic operations requirements for unicoms.

Need: Unicoms are important air-ground communication facilities employed at airports with a low volume of general aviation traffic and where no control tower is active. These rules govern their operations at uncontrolled aerodromes and airports.

Legal Basis: 47 U.S.C. 154, 303 and 307(e), unless otherwise noted.

Section Number and Title:

87.215(c)-(e) Supplemental eligibility.

Subpart I—Aeronautical Enroute Stations, Aeronautical Fixed Stations, and Aircraft Data Link Land Test Stations

Brief Description: Part 87 contains the Commission rules governing aviation services. Subpart I sets forth the rule governing assignment of frequencies in those services.

Need: This rule is needed as it designates certain frequencies for aeronautical enroute stations, which provide operational control communications to aircraft along domestic or international air routes.

Legal Basis: 47 U.S.C. 154, 303 and 307(e).

Section Number and Title:

87.263(a)(1)(5) Frequencies.

PART 90—PRIVATE LAND MOBILE RADIO SERVICES

Subpart B—Public Safety Pool

Brief Description: The Public Safety Radio Pool covers the licensing of the radio communications of governmental entities and the following Medical services, rescue organizations, veterinarians, persons with disabilities, disaster relief organizations, school buses, beach patrols, establishments in isolated places, communications standby facilities, and emergency repair of public communications facilities.

Need: Modifies the Public Safety Pool Frequency Table in 47 CFR 90.20(c)(3) to provide that operation on specified is subject to the low power provisions of 90.267. These frequencies are assigned to the Public Safety Group in the low power pool.

Section Number and Title:

90.20 Public Safety Pool.

Subpart C—Industrial/Business Radio Pool

Brief Description: Part 90 states the conditions under which radio communications systems may be licensed and used in the Public Safety, Industrial/Business Radio Pool, Radiolocations Radio Services, and Commercial Mobile Radio Services. Subpart C covers the licensing of the radio communications of entities engaged in commercial activities, engaged in clergy activities, operating educational, philanthropic, or ecclesiastical institutions, or operating hospitals, clinics, or medical associations. Rules as to eligibility for licensing, frequencies available, permissible communications and classes and number of stations, and any special requirements are set forth in this subpart.

Need: These rules are needed as they designate certain frequencies for Industrial/Business Pool services.

Legal Basis: 47 U.S.C. 154, 303 and 307(e).

Section Number and Title:

90.35(b)(2)(ii)(iii) Industrial/Business Pool.

Subpart H—Policies Governing the Assignment of Frequencies

Brief Description: The part 90 rules set forth the conditions under which radio communications systems may be licensed and used in the Public Safety, Industrial/Business Radio Pool, and Radiolocation Radio Services. Subpart H rules inform about the policies under which the Commission assigns frequencies for the use of licensees under this part, frequency coordination procedures, and procedures under which licensees may cooperatively share radio facilities.

Need: These rules are needed as they designate certain frequencies for Private Land Mobile Radio Services (PLMRS) and authorize licensees to share use of their facilities and given that the Universal Licensing System (ULS) now provides frequency coordinators with immediate access to frequency and site information, it is necessary to clarify that a part 90 frequency or site deletion request need not be accompanied by a frequency coordination. It would be inconsistent to require coordination for a deletion of a site or a frequency when it is not required for a request to cancel an entire authorization.

Legal Basis: Sections 4(i), 11, 303(g), 303(r), and 332(c)(7) of the Communications Act of 1934, as amended, 47 U.S.C. 154(i), 161, 303(g), 303(r), and 332(c)(7), and Title VI of the Middle Class Tax Relief and Job Creation Act of 2012, Public Law 112-96, 126 Stat. 156.

Section Numbers and Titles:

90.175(b)(1)-(3), (j)(17) Frequency coordinator requirements.

90.179(j) Shared use of radio stations.

Subpart I—General Technical Standards

Brief Description: These rules set out the certification standards for part 90 transmitters, including the maximum bandwidth per voice or data channel.

Need: To ensure efficient use of spectrum by enabling the maximum number of users within a given spectrum band, the Commission has established maximum bandwidths for different applications. Manufacturers of transmission equipment must demonstrate, as a prerequisite to certification or verification, that their equipment meets the maximum bandwidth restrictions in the rules.

Legal Basis: 47 U.S.C. 303(g), 303(r), 332(a), 332(c), and 332(d).

Section Number and Title:

90.203(j), (l) Certification required.

Subpart I—General Technical Standards

Brief Description: The part 90 rules set forth the conditions under which radio communications systems may be licensed and used in the Public Safety, Industrial/Business Radio Pool, and Radiolocation Radio Services. Subpart I rules set forth the general technical requirements for use of frequencies and equipment in the radio services governed by this part. Such requirements include standards for acceptability of equipment, frequency tolerance, modulation, emissions, power, and bandwidths.

Need: These technical standards are needed to ensure that public safety communications devices are interoperable and do not cause harmful interference to other authorized communications.

Legal Basis: Sections 4(i), 11, 303(g), 303(r), and 332(c)(7) of the Communications Act of 1934, as amended, 47 U.S.C. 154(i), 161, 303(g), 303(r), and 332(c)(7), and Title VI of the Middle Class Tax Relief and Job Creation Act of 2012, Public Law 112-96, 126 Stat. 156.

Section Number and Title:

90.209(b)(6) Bandwidth limitations.

Subpart N—Operating Requirements

Brief Description: Part 90 provides general operating requirements for stations licensed under part 90 and used in the Public Safety, Industrial/Business Radio Pool, Radiolocations Radio Services, and Commercial Mobile Radio Services. Subpart N sets forth the rules for station operating procedures, points of communications, methods of station identification, control requirements, and station record-keeping requirements.

Need: This rule allows hand-held and vehicular transmitters in private land mobile radio services to be operated by any licensee holding a license in the 700 MHz Public Safety Band or by any licensee holding a license for any other public safety frequency pursuant to part 90.

Legal Basis: 47 U.S.C. 154(i), 161, 303(g), 303(r) and 332(c)(7).

Section Number and Title:

90.421(a)(3) Operation of mobile station units not under the control of the licensee.

Subpart R—Regulations Governing the Licensing and Use of Frequencies in the 763-775 and 793-805 MHz Bands

Brief Description: These rules set out the eligibility, operational, planning and licensing requirements, and technical standards for stations licensed in these bands, including interoperability requirements.

Need: Nationwide interoperability channels in the 700 MHz narrowband public safety spectrum are essential to provide first-responders with multiple communications channels using a common technology. Interoperability channels allow users to integrate their communications into other 700 MHz systems other than their “home” systems during emergency response operations.

Legal Basis: 47 U.S.C. 151, 154(i), 157, 301, 302, 303, 337.

Section Number and Title:

90.531(b)(1) Narrowband Interoperability Channels.

Subpart R—Regulations Governing the Licensing and Use of Frequencies in the 763-775 and 793-805 MHz Bands

Brief Description: These rules set out the eligibility, operational, planning and licensing requirements, and technical standards for stations licensed in these bands, including interoperability requirements.

Need: Limits on the maximum power allowed for certain devices are necessary to limit interference while still allowing sufficient power for a communications device to perform its functions. Thus, for example, transmitters operating on the 700 MHz Nationwide Interoperability Low Power Channels are limited to an effective radiated power (ERP) of two watts.

Legal Basis: 47 U.S.C. 151, 154(i), 154(j), 303(f), 303(r), 309, 332, 337, 403 and 405.

Section Number and Title:

90.541(d) Transmitting power and antenna height limits.

Subpart R—Regulations Governing the Licensing and Use of Frequencies in the 763-775 and 793-805 MHz Bands

Brief Description: These rules set out the eligibility, operational, planning and licensing requirements, and technical standards for stations licensed in these bands, including interoperability requirements.

Need: Ensuring interoperability on the 700 MHz nationwide narrowband interoperability channels requires the use of a common technology. Otherwise, first responders using a given proprietary technology would be unable to communicate with first responders in a different jurisdiction using a different technology. Accordingly the Commission adopted the mandatory use of ANSI/TIA/EIA (Project 25) technology for the 700 MHz nationwide narrowband interoperability channels.

Legal Basis: 47 U.S.C. 154(i), 154(j), 157(a), 302, 303(b), 303(f), 303(g), 303(r), 307(e), 332(a), 332(c).

Section Number and Title:

90.548 Interoperability Technical Standards.

Brief Description: These rules set out the eligibility, operational, planning and licensing requirements, and technical standards for stations licensed in these bands, including interoperability requirements.

Need: Encryption ensures that public safety communications cannot be intercepted. Requiring a common encryption protocol ensures that first responders “roaming” into another jurisdiction to provide assistance will have their transmissions encrypted using the same protocol as in their home jurisdiction. The rules require that licensees employing encryption use the DES encryption protocol, ANSI/TIA/EIA-102 AAAA-A-2001.

Legal Basis: 47 U.S.C. 154(i), 154(j), 157(a), 302, 303(b), 303(f), 303(g), 303(r), 307(e), 332(a), 332(c).

Section Number and Title:

90.553 Encryption.

Subpart S—Regulations Governing Licensing and Use of Frequencies in the 806-824, 851-869, 896-901, and 935-940 MHz Bands

Brief Description: Part 90 states the conditions under which radio communications systems may be licensed and used in the Public Safety, Industrial/Business Radio Pool, Radiolocations Radio Services, and Commercial Mobile Radio Services. Subpart S sets forth the rules governing the licensing and use of frequencies in the 806-824 MHz, 851-869 MHz, 896-901 MHz, and 935-940 MHz Bands.

Need: This rule sets forth the procedures for applicants with respect to selection and assignment of licenses of channels in the Business/Industrial/Land Transportation category.

Legal Basis: 47 U.S.C. 154(i), 161, 303(g), 303(r) and 332(c)(7).

Section Number and Title:

90.621 Selection and assignment of frequencies.

Brief Description: These rules set out the eligibility, operational, planning and licensing requirements, and technical standards for stations licensed in these bands.

Need: Where a large-scale or complex communications system cannot be constructed and placed into operation within the required one-year period, the Commission's rules, provide an extended implementation period (5 years) when the licensees provide adequate justification.

Legal Basis: 47 U.S.C. 154(i), 303(r) and 331(a).

Section Number and Title:

90.629 Extended implementation period.

Brief Description: This subpart regulates licensing and operations of all systems operating in the 806-824/851-869 MHz and 896-901/935-940 MHz bands. These rules permit 800 MHz high density cellular system operations on channels 551-830 in non-border areas and on channels 411-830 in specific counties and parishes. Also, these rules impose a strict responsibility to abate unacceptable interference to non-cellular licensees and establish interference resolution procedures to be followed before, during, and after band reconfiguration.

Need: These rules result in efficient use of the spectrum regardless of the reconfiguration status of the band while preventing interference along the border and protecting operations by non-cellular licensees.

Legal Basis: 47 U.S.C. 154(i), 161, 303(g), 303(r), 332(c)(7); Title VI of the Middle Class Tax Relief and Job Creation Act of 2012, Public Law 112-96, 126 Stat. 156.

Section Numbers and Titles:

90.614 Segments of the 806-824/851-869 MHz band for non-border areas.

90.673-77 Obligation to abate unacceptable interference; Interference resolution procedures before, during, and after band reconfiguration; Information exchange; Transition administrator for reconfiguration of the 806-824/8512-869 MHz band in order to separate cellular systems from non-cellular systems; Reconfiguration of the 806-824/851-869 MHz band in order to separate cellular systems from non-cellular systems.

PART 95—PERSONAL RADIO SERVICES

Subpart B—Family Radio Services (FRS)

Brief Description: Part 95 contains the Commission rules relating to personal radio services. Subpart B sets forth the rules governing Family Radio Service (FRS).

Need: FRS provide a high-quality low-cost communications service to hunters, campers, hikers, bicyclists and other outdoor activity enthusiasts who need to communicate with other members of their party who are out of speaking range or sight but still in the same general area.

Legal Basis: 47 U.S.C. 154, 301, 302(a), 303, and 307(e).

Section Number and Title:

95.194(d) (FRS Rule 4) FRS units.

Subpart D—Citizens Band (CB) Radio Service

Brief Description: Part 95 contains the Commission rules relating to personal radio services. Subpart D sets forth the rules governing the various citizens band services, including the Citizens Band (CB) Radio Service; Family Radio Service (FRS); Low Power Radio Service (LPRS); Medical Device Radiocommunication Service (MedRadio); Wireless Medical Telemetry Service (WMTS); Multi-Use Radio Service (MURS); and Dedicated Short-Range Communications Service On-Board Units (DSRCS-OBUs).

Need: The rule lists Dedicated Short-Range Communications Service On-Board Units (DSRCS-OBUs) among citizens band services.

Legal Basis: 47 U.S.C. 154, 301, 302(a), 303, and 307(e).

Section Number and Title:

95.401(g) (CB Rule 1) What are the Citizens Band Radio Services?

Subpart E—Technical Regulations

Brief Description: Part 95 contains the Commission rules relating to personal radio services. Subpart E sets forth the technical standards under which part 95 licensees may operate.

Need: The rules specify technical standards for Dedicated Short-Range Communications Service On-Board Units (DSRCS-OBU).

Legal Basis: 47 U.S.C. 154, 301, 302(a), 303, and 307(e).

Section Numbers and Titles:

95.603(h) Certification required.

95.631(k) Emission types.

95.633(g) Emission bandwidth.

95.635(f) Unwanted radiation.

95.637(f) Modulation standards.

95.639(i) Maximum transmitter power.

95.643 DSRCS-OBU certification.

95.655(d) Frequency capability.

Subpart F—218-219 MHz Service

Brief Description: Part 95 contains the Commission rules relating to personal radio services. Subpart F sets forth the rules governing the 218-219 MHz service.

Need: These rules are needed to set forth the various regulations governing the operation of Personal Radio Service in the 218-219 MHz band.

Legal Basis: 47 U.S.C. 154 and 303.

Section Numbers and Titles:

95.803 218-219 MHz service description.

95.807(a), (1), (4) Requesting regulatory status.

95.811(b), (e) License requirements.

95.812(a) License term.

95.816(b) Competitive bidding proceedings.

95.819 License transferability.

95.861(c) Interference.

Subpart K—Personal Locator Beacons (PLB)

Brief Description: Part 95 contains the Commission rules relating to personal radio services. Rules in subpart K provide individuals in remote areas a means to alert others of an emergency situation and to aid search and rescue personnel locate those in distress.

Need: These rules provide individuals in remote areas a means to alert others of an emergency situation and to aid search and rescue personnel locate those in distress.

Legal Basis: 47 U.S.C. 154, 301, 302(a), 303, and 307(e).

Section Numbers and Titles:

95.1400 Basis and purpose.

95.1401 Frequency.

95.1402 Special requirements for 406 MHz PLBs.

Subpart L—Dedicated Short-Range Communications Service On-Board Units (DSRCS-OBUS)

Brief Description: Part 95 contains the Commission rules relating to personal radio services. Subpart L sets out the regulations governing Dedicated Short-Range Communications Service On-Board Units (DSRCS-OBUs) in the 5850-5925 MHz band.

Need: DSRC provides the critical communications link for intelligent transportation systems, which according to the Secretary of Transportation, are the key to achieving the United States Department of Transportation's number one priority, reducing highway fatalities. The rules in subpart L pertain to licensing of On-Board Units, in-vehicle communications units.

Legal Basis: 47 U.S.C. 154, 301, 302(a), 303, and 307(e).

Section Numbers and Titles:

95.1501 Scope.

95.1503 Eligibility.

95.1505 Authorized locations.

95.1507 Station identification.

95.1509 ASTM E2213-03 DSRC Standards.

95.1511 Frequencies available.

PART 97—AMATEUR RADIO SERVICES

Subpart A—General Provisions

Brief Description: Part 97 contains the Commission rules relating to amateur radio services. Subpart A sets forth the general provisions pertaining to Commission's scope and authority and definitions related to amateur radio services.

Need: These rules are needed to define “question pool,” which is the set of current examination questions for the written element of the examination required to receive an amateur radio license as it pertains to amateur radio services. The rules also provide the definitions of technical symbols used in this part.

Legal Basis: 47 U.S.C. 151-155 and 301-609.

Section Number and Title:

97.3(a)(35), (b) Definitions.

Subpart B—Station Operation Standards

Brief Description: Part 97 contains the Commission rules relating to amateur radio services. Subpart B sets forth station operation standards for amateur radio services.

Need: These rules describe how amateur radio license operators must indicate their license class (Novice, Technician, General, Advanced, and Amateur Extra) using the license call sign.

Legal Basis: 47 U.S.C. 154, 303. 47 U.S.C. 151-155 and 301-609.

Section Number and Title:

97.119(f)(2)(3) Station identification.

Subpart F—Qualifying Examination Systems

Brief Description: Part 97 contains the Commission rules relating to amateur radio services. Subpart F sets forth rules for the examination required for new amateur operator license grants.

Need: This rule allows Volunteer Examiners (VEs) and Volunteer Examiner-Coordinators (VECs) to be reimbursed by examinees for out-of-pocket expenses related to the amateur operator license exam.

Legal Basis: 47 U.S.C. 154, 303, 47 U.S.C. 151-155 and 301-609.

Section Number and Title:

97.527 Reimbursement for expenses.

PART 101—FIXED MICROWAVE SERVICES

Subpart B—Applications and Licenses

Brief Description: Part 101 contains service and licensing rules for Fixed Microwave Services. Subpart B establishes application and licensing requirements for a number of different fixed microwave services.

Need: The revised rules govern the relocation of fixed microwave licensees in the 1850-1990 MHz, 2110-2150 MHz and 2160-2200 MHz bands by mobile satellite service licensees (101.69(e)) and the relocation of fixed microwave licensees in the 1910-1920 MHz and 2175-2180 MHz bands by Advanced Wireless Service (AWS) licensees (101.69(f)).

Legal Basis: 47 U.S.C. 154 and 303.

Section Number and Title:

101.69 Transition of the 1850-1990 MHz, 2110-2150 MHz, and 2160-2200 MHz bands from the fixed microwave services to personal communications services and emerging technologies.

Brief Description: Part 101 of the Commission's rules prescribes the manner in which spectrum may be made available for private operational, common carrier, 24 GHz Service, and Local Multipoint Distribution Service fixed, microwave operations that require transmitting facilities on land or in specified offshore coastal areas within the continental shelf. Subpart B sets forth the general filing requirements for applications and licenses in the Fixed Microwave Services.

Need: The revised rules update frequency assignments to reflect the reallocation of frequencies in the 18 GHz band from terrestrial Fixed Service to the Fixed Satellite Service, as well as the grandfathering of existing Fixed Service facilities.

Legal Basis: 47 U.S.C. 154 and 303.

Section Numbers and Titles:

101.85 Transition of the 18.3-19.3 GHz band from the terrestrial fixed services to the fixed-satellite service (FSS).

101.91 Involuntary relocation procedures.

101.95 Sunset provisions for licensees in the 18.30-19.30 GHz band.

101.97 Future licensing in the 18.30-19.30 GHz band.

Subpart C—Technical Standards

Brief Description: Part 101 of the Commission's rules prescribes the manner in which spectrum may be made available for private operational, common carrier, 24 GHz Service, and Local Multipoint Distribution Service fixed, microwave operations that require transmitting facilities on land or in specified offshore coastal areas within the continental shelf. Subpart C sets forth technical standards for applications, service and licensing rules for Fixed Microwave Services.

Need: The revised rules establish revised technical standards for Multiple Address Systems and Operational Fixed Stations and establish the emissions mask for the 71-76 GHz, 81-86 GHz, 92-94 GHz, and 94.1-95 GHz bands (101.111(a)(2)(v)); establish requirements for existing private operational fixed wireless licensees applying to become common carrier licensees (101.133(e)); and establish frequency assignments for the 71-76 GHz, 81-86 GHz, 92-94 GHz, and 94.1-95 GHz bands (101.147(z)). The need for these rules is ongoing.

Legal Basis: 47 U.S.C. 154 and 303.

Section Numbers and Titles:

101.105 Interference protection criteria.

101.107 Frequency tolerance.

101.111 Emission limitations.

101.113 Transmitter power limitations.

101.133(e) Limitations on use of transmitters.

101.135 Shared use of radio stations and the offering of private carrier service.

101.147 Frequency assignments.

Subpart O—Multiple Address Systems

Brief Description: Part 101 of the Commission's rules prescribes the manner in which spectrum may be made available for private operational, common carrier, 24 GHz Service, and Local Multipoint Distribution Service fixed, microwave operations that require transmitting facilities on land or in specified offshore coastal areas within the continental shelf. Subpart O sets forth the general provisions, system license requirements, and system requirements for Multiple Address Systems as well as the provisions implementing section 309(j) of the Communications Act of 1934, as amended, authorizing the Commission to employ competitive bidding procedures to resolve mutually exclusive applications for certain initial licenses.

Need: The subpart O rules establish service and technical rules applicable to Multiple Address Systems and implement the Commission's competitive bidding authority under 47 U.S.C. 309(j).

Legal Basis: 47 U.S.C. 154(i), 303 and 309.

Section Numbers and Titles:

101.1307 Permissible communications.

101.1315 Service areas.

101.1331 Treatment of incumbents.

Subpart Q—Service and Technical Rules for the 70/80/90 GHz Bands

Brief Description: Part 101 contains service and licensing rules for Fixed Microwave Services. Subpart Q sets forth the service, licensing and technical rules for the 71-76 GHz, 81-86 GHz, 92-94 GHz, and 94.1-95 GHz bands (known colloquially as the 70/80/90 GHz bands).

Need: These rules establish service, licensing and technical rules for the 70/80/90 GHz bands. The need for these rules is ongoing.

Legal Basis: 47 U.S.C. 154, 303.

Section Numbers and Titles:

101.1501 Service areas.

101.1505 Segmentation plan.

101.1507 Permissible operations.

101.1511 Regulatory status and eligibility.

101.1513 License term and renewal expectancy.

101.1523 Sharing and coordination among non-government licensees and between non-government and government services.

101.1525 RF safety.

101.1527 Canadian and Mexican coordination.

[FR Doc. 2017-02221 Filed 2-2-17; 8:45 am]

BILLING CODE 6712-01-P